DEPARTMENT OF THE INTERIOR

Fish and Wildlife Service

50 CFR Part 10

RIN 1018-AB72

General Provisions; Revised List of Migratory Birds

AGENCY: Fish and Wildlife Service, Interior.

ACTION: Proposed rule.

SUMMARY: We propose to revise the List of Migratory Birds by (1) adding 1 species that belongs to a family covered by the Canadian and Mexican treaties and that is now known to occur and breed regularly in the United States; (2) adding 2 species covered by the Japanese and Russian treaties that were mistakenly omitted from previous lists; (3) adding 1 species of regular occurrence in the United States that now belongs to a protected family as a result of a recent taxonomic revision; (4) adding 26 newly recognized species; (5) removing 1 species that is no longer considered valid; (6) changing the English (common) and scientific names of 78 species to conform with modern nomenclature; and (7) correcting an error in the common (English) name of 1 species. The net result of these proposed changes is the addition of 29 species (25 by name only), which will bring the total number of protected species to 861; only 4 of the 29 proposed additions are not currently covered by the existing list as former subspecies of a listed species.

DATES: Comments must be submitted on or before November 13, 2001.

ADDRESSES: Written comments may be mailed to the Chief, Division of Migratory Bird Management, U.S. Fish and Wildlife Service, 4401 North Fairfax Drive, Room 634, Arlington, VA 22203. Alternatively, comments may be e-mailed, with Migratory Birds in the subject line, to John L. Trapp (john_trapp@fws.gov). The complete file for this rule will be available for public inspection during normal business hours, by appointment, at the above address.

FOR FURTHER INFORMATION CONTACT: Jon Andrew, Chief, Division of Migratory Bird Management, U.S. Fish and Wildlife Service, telephone: (703) 358-1714.

SUPPLEMENTARY INFORMATION:

What Statutory Authority Does the Service Have for This Rulemaking?

We have statutory authority and responsibility for enforcing the Migratory Bird Treaty Act (MBTA) in 16 U.S.C. 703-711, the Fish and Wildlife Improvement Act of 1978, 16 U.S.C. 712, and 16 U.S.C. 742a-j. The MBTA implements treaties between the United States and four neighboring countries for the protection of migratory birds, as follows:

(1) Canada: Convention for the Protection of Migratory Birds, August 16, 1916, United States-Great Britain (on behalf of Canada), 39 Stat. 1702, T.S. No. 628;

(2) Mexico: Convention for the Protection of Migratory Birds and Game Mammals, February 7, 1936, United States-United Mexican States (=Mexico), 50 Stat. 1311, T.S. No. 912;

(3) Japan: Convention for the Protection of Migratory Birds and Birds in Danger of Extinction, and Their Environment, March 4, 1972, United States-Japan, 25 U.S.T., 3329 T.I.A.S. No. 7990; and

(4) Russia: Convention for the Conservation of Migratory Birds and Their Environment, United States-Union of Soviet Socialist Republics (=Russia), November 26, 1976, 92 Stat. 3110, T.I.A.S. 9073, 16 U.S.C. 703-712.

What Is the Purpose of The Proposed Rulemaking?

Our purpose is to inform the public of the species protected by regulations designed to enforce the terms of the MBTA. These regulations are found in Title 50, Code of Federal Regulations (CFR), Parts 10, 20, and 21. We regulate most aspects of the taking, possession, transportation, sale, purchase, barter, exportation, and importation of migratory birds. An accurate and up-to-date list of species protected by the MBTA is essential for regulatory purposes.

Why Is The Proposed Amendment to the List of Migratory Birds Necessary?

The proposed amendment is needed to (1) add a species that belongs to a protected family and that is now known to occur and breed regularly in the United States, (2) add two species covered by the Japanese and Russian treaties that were mistakenly omitted from previous lists, (3) add a species of regular occurrence in the United States that now belongs to a protected family as a result of recent taxonomic revisions, (4) add 26 newly recognized species by name, (5) remove a species that is no longer considered valid, (6) change the common (English) and scientific names of 78 species to conform with modern nomenclature, and (7) correct an error in the existing list. Twenty-nine species will be added by name, but in fact only four will be newly covered (the other 25 having previously been covered as subspecies of a listed species).

The List of Migratory Birds (50 CFR 10.13) was last revised on April 5, 1985 (50 FR 13710). In a proposed rule published May 9, 1995 (60 FR 24686), we suggested adding 20 species, removing 1 species, and revising the common (English) or scientific names of 23 previously listed species to conform with the most recent nomenclature. The proposed amendments were a response to five published supplements to the 6th (1983) edition of the American Ornithologists' Union's (AOU's) Check-list of North American birds. Knowing that additional amendments would be necessary following the anticipated publication of a 7th edition of the Check-list, we elected to delay publication of a final rule until after the appearance of the revised Check-list. The 1995 proposed rule generated just two public comments, from the American Ornithologists' Union and the Association of Scientific Collections. The comments of those organizations, mostly editorial in nature, are incorporated into this document, as appropriate.

Following publication of the 7th edition of the Check-list in July 1998, administrative workloads and staff shortages prevented work on a final rule until September 2000. Because of the 5-year delay since publication of the proposed rule, plus the many new changes necessitated by the 7th edition of the Check-list, we are issuing another proposed rule. This will provide the public with an opportunity to review and comment on all of the desired changes that have come to light since publication of the 1995 proposed rule.

What Scientific Authorities Does the Service Use To Amend the List of Migratory Birds?

Although bird names (common and scientific) are relatively stable, there is still a need for standardized usage to avoid confusion in communications. We follow the Check-list of North American birds (AOU 1998), as amended (AOU 1999, 2000), on matters of taxonomy, nomenclature, and the sequence of species and other higher taxonomic categories (orders, families, subfamilies). For the few species that occur outside the geographic area covered by the Check-list (AOU 1998, 1999, and 2000), we follow Monroe and Sibley (1993). Citations for these authorities follow:

American Ornithologists' Union. 1998. Check-list of North American birds. 7th Edition. American Ornithologists' Union, Washington, DC. 829 pp.

American Ornithologists' Union. 1999. Notice from the Committee on Classification and Nomenclature. Auk 116: 282-283.

American Ornithologists' Union. 2000. Forty-second supplement to the American Ornithologists' Union Check-list of North American birds. Auk 117: 847-858.

Monroe, B. L., Jr., and C. G. Sibley. 1993. A world checklist of birds. Yale University Press, New Haven, Conn. 393 pp.

What Criteria Does the Service Use To Identify Species Eligible for Protection by the MBTA?

The treaties with Canada and Mexico indicate, by scientific names of families or groups or by the common (English) names of species or groups of species, which birds were intended to be covered. We generally do not include species of purely accidental or casual occurrence in the United States, even if they belong to one of the named families or groups. Similarly, we do not list species whose occurrence in the United States is strictly the result of intentional human introduction(s).

The Japanese and Russian treaties list individual species of birds that are covered. For 35 of these species, the scientific (genus or species) name currently recognized by scientific authorities (AOU 1998 and 1999, Monroe and Sibley 1993) differs from that which appears in the treaties. The following cross-reference provides a linkage between the scientific names used in this list and those that appear in the appendices to the Japanese and Russian treaties. The first name is the modern equivalent adopted here, and the second name is that which appears in one or another of the treaties. These changes do not revise the appendices to either the Japanese or the Russian treaty (indicated by J or R):

Accipiter gularis (Japanese Sparrowhawk) is listed as Accipiter virgatus (J & R);

Actitis hypoleucos (Common Sandpiper) is listed as Tringa hypoleucos (J & R);

Aethia psittacula (Parakeet Auklet) is listed as Cyclorrhynchus psittacula (R);

Anas americana (American Wigeon) is listed as Mareca americana (J);

Anas clypeata (Northern Shoveler) is listed as Spatula clypeata (J);

Anas penelope (Eurasian Wigeon) is listed as Mareca penelope (J);

Anthus rubescens (American Pipit) is listed as Anthus spinoletta (J & R);

Branta bernicla (Brant) incorporates Branta nigricans (R);

Calidris alba (Sanderling) is listed as Crocethia alba (J);

Calidris subminuta (Long-toed Stint) is listed as part of Calidris minutilla (J);

Carduelis flammea (Common Redpoll) is listed as Acanthis flammea (J);

Carduelis hornemanni (Hoary Redpoll) is included as part of Carduelis flammea (J), and is listed as Acanthis hornemanni (R);

Charadrius morinellus (Eurasian Dotterel) is listed as Eudromias morinellus (J & R);

Chen canagica (Emperor Goose) is listed as Anser canagicus (J), and Philacte canagica (R);

Chen caerulescens (Snow Goose) is listed as Anser caerulescens (J);

Cygnus columbianus (Tundra Swan) incorporates Cygnus bewickii (R);

Egretta sacra (Pacific Reef-Egret) is listed as Demigretta sacra (J);

Fratercula cirrhata (Tufted Puffin) is listed as Lunda cirrhata (J & R);

Gallinago gallinago (Common Snipe) is listed as Capella gallinago (R);

Gallinago megala (Swinhoe's Snipe) is listed as Capella megala (R);

Gallinago stenura (Pin-tailed Snipe) is listed as Capella stenura (R);

Heterosceles brevipes (Gray-tailed Tattler) is included as part of Tringa incana (J);

Heterosceles incanus (Wandering Tattler) is listed as Tringa incana (J);

Luscinia calliope (Siberian Rubythroat) is listed as Erithacus calliope (J);

Melanitta fusca (White-winged Scoter) incorporates Melanitta deglandi (J);

Mergellus albellus (Smew) is listed as Mergus albellus (J & R);

Milvus migrans (Black Kite) is listed as Milvus korschun (R);

Motacilla lugens (Black-backed Wagtail) is included as part of Motacilla alba (J & R);

Numenius borealis (Eskimo Curlew) is included as part of Numenius minutus (J);

Phalaropus lobatus (Red-necked Phalarope) is listed as Lobipes lobatus (R);

Phoebastria albatrus (Short-tailed Albatross) is listed as Diomedea albatrus (J & R);

Phoebastria immutabilis (Laysan Albatross) is listed as Diomedea immutabilis (J & R);

Phoebastria nigripes (Black-footed Albatross) is listed as Diomedea nigripes (J & R);

Pterodroma hypoleuca (Bonin Petrel) is listed as Pterodroma leucoptera (R);

Tachycineta bicolor (Tree Swallow) is listed as Iridoprocne bicolor (R); and

Turdus obscurus (Eyebrowed Thrush) is listed as Turdus pallidus (R)

How Will the Changes Proposed Here Affect the List of Migratory Birds?

The proposed amendments address a grand total of 109 species and would result in a net addition of 30 species to the List of Migratory Birds, bringing the species total to 862. Only four species, though, are not already covered. Under these amendments, as proposed:

(1) One species would be added because of recent evidence that it occurs regularly in the United States:

Tanager, Flame-colored, Piranga bidentata

(2) Two species would be added because they are included in the Appendix of the Russian treaty and in the Annex to the Japanese treaty, respectively; the omission of these species in previous lists is considered an oversight:

Duck, Spot-billed, Anas poecilorhyncha; and

Gull, Black-tailed, Larus crassirostris

(3) One species would be added because it occurs regularly in the United States, and recent taxonomic changes place it in a family (Sylviidae) covered by the Canadian and Mexican treaties:

Millerbird, Acrocephalus familiaris

(4) Twenty-six species would be added because of recent taxonomic changes; what was once considered a single species is now recognized by authorities as two or more species. These additions will not change the protective status of these taxa, only the names by which they are known:

Coot, Hawaiian, Fulica alai (formerly included in Fulica americana, American Coot);

Flicker, Gilded, Colaptes chrysoides (formerly included in Colaptes auratus, Northern Flicker);

Flycatcher, Cordilleran, Empidonax occidentalis (formerly included in Empidonax difficilis, Western Flycatcher);

Gnatcatcher, California, Polioptila californica (formerly included in Polioptila melanura, Black-tailed Gnatcatcher);

Golden-Plover, Pacific, Pluvialis fulva (formerly included in Pluvialis dominica, Lesser Golden-Plover);

Grebe, Clark's, Aechmophorus clarkii (formerly included in Aechmophorus occidentalis, Western Grebe);

Kamao, Myadestes myadestinus (formerly included in Phaeornis obscurus, Hawaiian Thrush);

Loon, Pacific, Gavia pacifica (formerly included in Gavia arctica, Arctic Loon);

Olomao, Myadestes lanaiensis (formerly included in Phaeornis obscurus, Hawaiian Thrush);

Oriole, Bullock's, Icterus bullockii (formerly included in Icterus galbula, Northern Oriole);

Petrel, White-necked, Pterodroma cervicalis (formerly included in Pterodroma externa, White-necked Petrel, currently known as Juan Fernandez Petrel);

Rosy-Finch, Black, Leucosticte atrata (formerly included in Leucosticte arctoa, Rosy Finch);

Rosy-Finch, Brown-capped, Leucosticte australis (formerly included in Leucosticte arctoa, Rosy Finch);

Rosy-Finch, Gray-crowned, Leucosticte tephrocotis (formerly included in Leucosticte arctoa, Rosy Finch);

Sapsucker, Red-naped, Sphyrapicus nuchalis (formerly included in Sphyrapicus varius, Yellow-bellied Sapsucker);

Scrub-Jay, Island, Aphelocoma insularis (formerly included in Aphelocoma coerulescens, Scrub Jay);

Scrub-Jay, Western, Aphelocoma californica (formerly included in Aphelocoma coerulescens, Scrub Jay);

Sparrow, Nelson's Sharp-tailed, Ammodramus nelsoni (formerly included in Ammodramus caudacutus, Sharp-tailed Sparrow);

Thrush, Bicknell's, Catharus bicknelli (formerly included in Catharus minimus, Gray-cheeked Thrush);

Titmouse, Juniper, Baeolophus ridgwayi (formerly included in Parus inornatus, Plain Titmouse);

Towhee, California, Pipilo crissalis (formerly included in Pipilo fuscus, Brown Towhee);

Towhee, Spotted, Pipilo maculatus (formerly included in Pipilo erythrophthalmus, Rufous-sided Towhee);

Vireo, Cassin's, Vireo cassinii (formerly included in Vireo solitarius, Solitary Vireo);

Vireo, Plumbeous, Vireo plumbeus (formerly included in Vireo solitarius, Solitary Vireo);

Vireo, Yellow-green, Vireo flavoviridis (formerly included in Vireo olivaceus, Red-eyed Vireo); and

Woodpecker, Arizona, Picoides arizonae (formerly included in Picoides stricklandi, Strickland's Woodpecker)

(5) One species would be removed because of uncertainty about its biological authenticity (but remain protected as the Black Rosy-Finch, Gray-crowned Rosy-Finch, and Brown-capped Rosy-Finch; see above):

Finch, Rosy, Leucosticte arctoa

(6) The common (English) or scientific (genus or species) names of 78 species will be revised to conform with the most recent nomenclature. These revisions will not change the protective status of any of these taxa, only the names by which they are known:

Albatross, Black-footed, Diomedea nigripes, will be changed to Phoebastria nigripes;

Albatross, Laysan, Diomedea immutabilis, will be changed to Phoebastria immutabilis;

Albatross, Short-tailed, Diomedea albatrus, will be changed to Phoebastria albatrus;

Albatross, Yellow-nosed, Diomedea chlororhynchos, will be changed to Thalassarche chlororhynchos;

Auklet, Parakeet, Cyclorrhynchus psittacula, will be changed to Aethia psittacula;

Barn-Owl, Common, will be changed to Owl, Barn;

Bittern, Chinese, will be changed to Bittern, Yellow;

Caracara, Crested, Polyborus plancus, will be changed to Caracara cheriway (this supersedes the proposed change to Caracara plancus);

Chickadee, Black-capped, Parus atricapillus, will be changed to Poecile atricapilla;

Chickadee, Boreal, Parus hudsonicus, will be changed to Poecile hudsonica;

Chickadee, Carolina, Parus carolinensis, will be changed to Poecile carolinensis;

Chickadee, Chestnut-backed, Parus rufescens, will be changed to Poecile rufescens;

Chickadee, Mexican, Parus sclateri, will be changed to Poecile sclateri;

Chickadee, Mountain, Parus gambeli, will be changed to Poecile gambeli;

Cormorant, Olivaceous, Phalacrocorax olivaceus, will be changed to Cormorant, Neotropic, Phalacrocorax brasilianus;

Crow, Mexican, will be changed to Crow, Tamaulipas;

Curlew, Least, will be changed to Curlew, Little;

Duck, Masked, Oxyura dominica, will be changed to Nomonyx dominica;

Egret, Great, Casmerodius albus, will be changed to Ardea alba;

Egret, Plumed, Egretta intermedia, will be changed to Egret, Intermediate, Mesophoyx intermedia;

Flycatcher, Olive-sided, Contopus borealis, will be changed to Contopus cooperi;

Flycatcher, Western, will be changed to Flycatcher, Pacific-slope;

Gannet, Northern, Sula bassanus, will be changed to Morus bassanus;

Golden-Plover, Lesser, will be changed to Golden-Plover, American;

Goose, Hawaiian, Nesochen sandvicensis, will be changed to Branta sandvicensis;

Goose, Ross', will be changed to Goose, Ross's;

Gull, Common Black-headed, will be changed to Gull, Black-headed;

Gull, Ross', will be changed to Gull, Ross's;

Hawk, Asiatic Sparrow, will be changed to Sparrowhawk, Japanese;

Hawk, Gray, Buteo nitidus, will be changed to Asturina nitida;

Hawk, Harris', will be changed to Hawk, Harris's;

Hawk-Owl, Northern, will be changed to Owl, Northern Hawk;

Heron, Green-backed, Butorides striatus, will be changed to Heron, Green, Butorides virescens;

Heron, Pacific Reef, Egretta sacra, will be changed to Reef-Egret, Pacific;

Hoopoe will be changed to Hoopoe, Eurasian;

Jay, Gray-breasted, will be changed to Jay, Mexican;

Jay, Scrub, will be changed to Scrub-Jay, Florida;

Kite, American Swallow-tailed, will be changed to Kite, Swallow-tailed;

Kite, Black-shouldered, Elanus caeruleus, will be changed to Kite, White-tailed, Elanus leucurus;

Magpie, Black-billed, Pica pica, will be changed to Pica hudsonia;

Murrelet, Xantus', will be changed to Murrelet, Xantus's;

Night-Heron, Japanese, Nycticorax goisagi, will be changed to Gorsachius goisagi

Night-Heron, Malay, Nycticorax melanolophus, will be changed to Night-Heron, Malayan, Gorsachius melanolophus;

Night-Heron, Yellow-crowned, Nycticorax violaceus, will be changed to Nyctanassa violacea;

Oldsquaw will be changed to Duck, Long-tailed;

Oriole, Black-cowled, will be changed to Oriole, Greater Antillean;

Oriole, Northern, will be changed to Oriole, Baltimore;

Petrel, White-necked, Pterodroma externa, will be changed to Petrel, Juan Fernandez;

Pipit, Water, Anthus spinoletta, will be changed to Pipit, American, Anthus rubescens;

Reed-Bunting, Common, will be changed to Bunting, Reed;

Reed-Bunting, Pallas', will be changed to Bunting, Pallas's;

Skua, Great, Catharacta skua, will be changed to Stercorarius skua;

Skua, South Polar, Catharacta maccormicki, will be changed to Stercorarius maccormicki;

Skylark, Eurasian, will be changed to Lark, Sky;

Sparrow, Five-striped, Amphispiza quinquestriata, will be changed to Aimophila quinquestriata;

Sparrow, Harris', will be changed to Sparrow, Harris's;

Sparrow, Sharp-tailed, Ammodramus caudacutus, will be changed to Sparrow, Saltmarsh Sharp-tailed;

Starling, Ashy, will be changed to Starling, White-cheeked;

Starling, Violet-backed, will be changed to Starling, Chestnut-cheeked;

Storm-Petrel, Sooty, will be changed to Storm-Petrel, Tristram's;

Swallow, Cave, Hirundo fulva, will be changed to Petrochelidon fulva;

Swallow, Cliff, Hirundo pyrrhonota, will be changed to Petrochelidon pyrrhonota;

Swift, Antillean Palm, will be changed to Palm-Swift, Antillean;

Tanager, Stripe-headed, Spindalis zena, will be changed to Spindalis, Puerto Rican, Spindalis portoricensis;

Teal, Falcated, will be changed to Duck, Falcated;

Thrush, Eye-browed, will be changed to Thrush, Eyebrowed;

Thrush, Hawaiian, Phaeornis obscurus, will be changed to Omao, Myadestes obscurus;

Thrush, Small Kauai, Phaeornis palmeri, will be changed to Puaiohi, Myadestes palmeri;

Tit, Siberian, Parus cinctus, will be changed to Chickadee, Gray-headed, Poecile cincta;

Titmouse, Bridled, Parus wollweberi, will be changed to Baeolophus wollweberi;

Titmouse, Plain, Parus inornatus, will be changed to Titmouse, Oak, Baeolophus inornatus;

Titmouse, Tufted, Parus bicolor, will be changed to Baeolophus bicolor;

Towhee, Brown, will be changed to Towhee, Canyon;

Towhee, Rufous-sided, will be changed to Towhee, Eastern;

Tree-Pipit, Olive, will be changed to Pipit, Olive-backed;

Vireo, Solitary, will be changed to Vireo, Blue-headed;

Warbler, Elfin Woods, will be changed to Warbler, Elfin-woods; and

Woodpecker, Lewis', will be changed to Woodpecker, Lewis's.

(7) The common (English) name of one species will be revised to correct a misspelling:

Redstart, Slaty-throated, will be changed to Redstart, Slate-throated.

For ease of comparison, the proposed changes are summarized in the following table:

Remove | Add (alphabetically)
Albatross, Black-footed, Diomedea nigripes | Albatross, Black-footed, Phoebastria nigripes.
Albatross, Laysan, Diomedea immutabilis | Albatross, Laysan, Phoebastria immutabilis.
Albatross, Short-tailed, Diomedea albatrus | Albatross, Short-tailed, Phoebastria albatrus.
Albatross, Yellow-nosed, Diomedea chlororhynchos | Albatross, Yellow-nosed, Thalassarche chlororhynchos.
Auklet, Parakeet, Cyclorrhynchus psittacula | Auklet, Parakeet, Aethia psittacula.
Barn-Owl, Common, Tyto alba
Bittern, Chinese, Ixobrychus sinensis | Bittern, Yellow, Ixobrychus sinensis.
| Bunting, Pallas's, Emberiza pallasi.
| Bunting, Reed, Emberiza schoeniculus.
Caracara, Crested, Polyborus plancus | Caracara, Crested, Caracara cheriway.
Chickadee, Black-capped, Parus atricapillus | Chickadee, Black-capped, Poecile atricapillus.
Chickadee, Boreal, Parus hudsonicus | Chickadee, Boreal, Poecile hudsonicus.
Chickadee, Carolina, Parus carolinensis | Chickadee, Carolina, Poecile carolinensis.
Chickadee, Chestnut-backed, Parus rufescens | Chickadee, Chestnut-backed, Poecile rufescens.
| Chickadee, Gray-headed, Poecile cincta.
Chickadee, Mexican, Parus sclateri | Chickadee, Mexican, Poecile sclateri.
Chickadee, Mountain, Parus gambeli | Chickadee, Mountain, Poecile gambeli.
| Coot, Hawaiian, Fulica alai.
Cormorant, Olivaceous, Phalacrocorax olivaceus | Cormorant, Neotropic, Phalacrocorax brasilianus.
Crow, Mexican, Corvus imparatus | Crow, Tamaulipas, Corvus imparatus.
Curlew, Least, Numenius minutus | Curlew, Little, Numenius minutus.
| Duck, Falcated, Anas falcata.
| Duck, Long-tailed, Clangula hyemalis.
Duck, Masked, Oxyura dominica | Duck, Masked, Nomonyx dominica.
| Duck, Spot-billed, Anas poecilorhyncha.
Egret, Great, Casmerodius albus | Egret, Great, Ardea alba.
Egret, Plumed, Egretta intermedia | Egret, Intermediate, Mesophoyx intermedia.
Finch, Rosy, Leucosticte arctoa
| Flicker, Gilded, Colaptes chrysoides.
| Flycatcher, Cordilleran, Empidonax occidentalis.
Flycatcher, Olive-sided, Contopus borealis | Flycatcher, Olive-sided, Contopus cooperi.
Flycatcher, Western, Empidonax difficilis | Flycatcher, Pacific-slope, Empidonax difficilis.
Gannet, Northern, Sula bassanus | Gannet, Northern, Morus bassanus.
| Gnatcatcher, California, Polioptila californica.
Golden-Plover, Lesser, Pluvialis dominica | Golden-Plover, American, Pluvialis dominica.
| Golden-Plover, Pacific, Pluvialis fulva.
Goose, Hawaiian, Nesochen sandvicensis | Goose, Hawaiian, Branta sandvicensis.
Goose, Ross', Chen rossii | Goose, Ross's, Chen rossii.
| Grebe, Clark's, Aechmophorus clarkii.
Gull, Common Black-headed, Larus ridibundus | Gull, Black-headed, Larus ridibundus.
| Gull, Black-tailed, Larus crassirostris.
Gull, Ross', Rhodostethia rosea | Gull, Ross's, Rhodostethia rosea.
Hawk, Asiatic Sparrow, Accipiter gularis
Hawk, Gray, Buteo nitidus | Hawk, Gray, Asturina nitida.
Hawk, Harris', Parabuteo unicinctus | Hawk, Harris's, Parabuteo unicinctus.
Hawk-Owl, Northern, Surnia ulula
Heron, Green-backed, Butorides striatus | Heron, Green, Butorides virescens.
Heron, Pacific Reef, Egretta sacra
Hoopoe, Upupa epops | Hoopoe, Eurasian, Upupa epops.
Jay, Gray-breasted, Aphelocoma ultramarina | Jay, Mexican, Aphelocoma ultramarina.
Jay, Scrub, Aphelocoma coerulescens
| Kamao, Myadestes myadestinus.
Kite, American Swallow-tailed, Elanoides forficatus | Kite, Swallow-tailed, Elanoides forficatus.
Kite, Black-shouldered, Elanus caeruleus | Kite, White-tailed, Elanus leucurus.
| Lark, Sky, Alauda arvensis.
| Loon, Pacific, Gavia pacifica.
Magpie, Black-billed, Pica pica | Magpie, Black-billed, Pica hudsonia.
| Millerbird, Acrocephalus familiaris.
Murrelet, Xantus', Synthliboramphus hypoleucus | Murrelet, Xantus's, Synthliboramphus hypoleucus.
Night-Heron, Japanese, Nycticorax goisagi | Night-Heron, Japanese, Gorsachius goisagi.
Night-Heron, Malay, Nycticorax melanolophus | Night-Heron, Malayan, Gorsachius melanolophus.
Night-Heron, Yellow-crowned, Nycticorax-violaceus | Night-Heron, Yellow-crowned, Nyctanassa violacea.
Oldsquaw, Clangula hyemalis
| Olomao, Myadestes lanaiensis.
| Omao, Myadestes obscurus.
Oriole, Black-cowled, Icterus dominicensis
Oriole, Northern, Icterus galbula | Oriole, Baltimore, Icterus galbula.
| Oriole, Bullock's, Icterus bullockii.
| Oriole, Greater Antillean, Icterus dominicensis.
| Owl, Barn, Tyto alba.
| Owl, Northern Hawk, Surnia ulula.
| Palm-Swift, Antillean, Tachornis phoenicobia.
Petrel, White-necked, Pterodroma externa | Petrel, Juan Fernandez, Pterodroma externa.
| Petrel, White-necked, Pterodroma cervicalis.
Pipit, Water, Anthus spinoletta | Pipit, American, Anthus rubescens.
| Pipit, Olive-backed, Anthus hodgsoni.
| Puaiohi, Myadestes palmeri.
Redstart, Slaty-throated, Myioborus miniatus | Redstart, Slate-throated, Myioborus miniatus.
Reed-Bunting, Common, Emberiza schoeniculus
Reed-Bunting, Pallas', Emberiza pallasi
| Reef-Egret, Pacific, Egretta sacra.
| Rosy-Finch, Black, Leucosticte atrata.
| Rosy-Finch, Brown-capped, Leucosticte australis.
| Rosy-Finch, Gray-crowned, Leucosticte tephrocotis.
| Sapsucker, Red-naped, Sphyrapicus nuchalis.
| Scrub-Jay, Florida, Aphelocoma coerulescens.
| Scrub-Jay, Island, Aphelocoma insularis.
| Scrub-Jay, Western, Aphelocoma californica.
Skua, Great, Catharacta skua | Skua, Great, Stercorarius skua.
Skua, South Polar, Catharacta maccormicki | Skua, South Polar, Stercorarius maccormicki.
Skylark, Eurasian, Alauda arvensis
Sparrow, Five-striped, Amphispiza quinquestriata | Sparrow, Five-striped, Aimophila quinquestriata.
Sparrow, Harris', Zonotrichia querula | Sparrow, Harris's, Zonotrichia querula.
| Sparrow, Nelson's Sharp-tailed, Ammodramus nelsoni.
Sparrow, Sharp-tailed, Ammodramus caudacutus | Sparrow, Saltmarsh Sharp-tailed, Ammodramus caudacutus.
| Sparrowhawk, Japanese, Accipiter gularis.
| Spindalis, Puerto Rican, Spindalis portoricensis.
Starling, Ashy, Sturnus cineraceus | Starling, White-cheeked, Sturnus cineraceus.
Starling, Violet-backed, Sturnus philippensis | Starling, Chestnut-cheeked, Sturnus philippensis.
Storm-Petrel, Sooty, Oceanodroma tristrami | Storm-Petrel, Tristram's, Oceanodroma tristrami.
Swallow, Cave, Hirundo fulva | Swallow, Cave, Petrochelidon fulva.
Swallow, Cliff, Hirundo pyrrhonota | Swallow, Cliff, Petrochelidon pyrrhonota.
Swift, Antillean Palm, Tachornis phoenicobia
Tanager, Stripe-headed, Spindalis zena
| Tanager, Flame-colored, Piranga bidentata.
Teal, Falcated, Anas falcata
| Thrush, Bicknell's, Catharus bicknelli.
Thrush, Eye-browed, Turdus obscurus | Thrush, Eyebrowed, Turdus obscurus.
Thrush, Hawaiian, Phaeornis obscurus
Thrush, Small Kauai, Phaeornis palmeri
Tit, Siberian, Parus cinctus
Titmouse, Bridled, Parus wollweberi | Titmouse, Bridled, Baeolophus wollweberi.
| Titmouse, Juniper, Baeolophus ridgwayi.
Titmouse, Plain, Parus inornatus | Titmouse, Oak, Baelophus inornatus.
Titmouse, Tufted, Parus bicolor | Titmouse, Tufted, Baelophus bicolor.
| Towhee, California, Pipilo crissalis.
Towhee, Brown, Pipilo fuscus | Towhee, Canyon, Pipilo fuscus.
Towhee, Rufous-sided, Pipilo erythrophthalmus | Towhee, Eastern, Pipilo erythrophthalmus.
| Towhee, Spotted, Pipilo maculatus.
Tree-Pipit, Olive, Anthus hodgsoni
Vireo, Solitary, Vireo solitarius | Vireo, Blue-headed, Vireo solitarius.
| Vireo, Cassin's, Vireo cassinii.
| Vireo, Plumbeous, Vireo plumbeus.
| Vireo, Yellow-green, Vireo flavoviridis.
Warbler, Elfin Woods, Dendroica angelae | Warbler, Elfin-woods, Dendroica angelae.
| Woodpecker, Arizona, Picoides arizonae.
Woodpecker, Lewis', Melanerpes lewis | Woodpecker, Lewis's, Melanerpes lewis.

How Do the Changes Proposed Here Differ From Those Discussed in the 1995 Proposed Rule?

The proposal to add Green Sandpiper (Tringa ochropus) and Oriental Turtle-Dove (Streptopelia orientalis) on the basis of recent distributional records is withdrawn pending additional evidence that they occur regularly in the United States. We propose adding the Flame-colored Tanager to the list on the basis of recent evidence that it occurs and breeds regularly in the United States, and because it belongs to a family (Thraupidae) covered by the Canadian and Mexican treaties.

As a result of taxonomic and nomenclatural changes incorporated into the 7th edition of the Check-list of North American birds, as amended (AOU 1998, 1999, and 2000), we propose adding 11 more newly recognized species (Arizona Woodpecker, Bicknell's Thrush, Bullock's Oriole, Cassin's Vireo, Gilded Flicker, Plumbeous Vireo, Island Scrub-Jay, Juniper Titmouse, Nelson's Sharp-tailed Sparrow, Spotted Towhee, and Western Scrub-Jay). These birds were formerly covered by the MBTA as subspecies of other species.

We also propose to revise the common (English) or scientific names of an additional 57 species previously listed in 50 CFR 10.13. The proposal to shorten the English name of the Common Pauraque (Nyctidromus albicollis) to Pauraque is no longer necessary due to a name change adopted by the AOU (2000).

How Is the List of Migratory Birds Organized?

The species are listed in two formats to suit the needs of different segments of the public: alphabetically in Section 10.13(c)(1) and taxonomically in Section 10.13(c)(2). In the alphabetical listing, species will be listed by common (English) name groups, with the scientific name of each species following the English name. This format, which is similar to that used in modern telephone directories, will be most useful to members of the lay public. In the taxonomic listing, species will be listed in phylogenetic sequence by scientific name, with the English name following the scientific name. To help clarify species relationships, we will also list the higher level taxonomic categories of Order, Family, and Subfamily. This format, which follows the sequence adopted by the AOU (1998), will be most useful to ornithologists and other scientists.

What Species Are Not Protected by the Migratory Bird Treaty Act?

The U.S. Fish and Wildlife Service and our predecessors have interpreted the MBTA and the underlying treaties as applying only to species of natural (but not accidental or casual) occurrence in North America or United States territory outside North America, and not to non-native species. One of the reasons for this is that the MBTA and the treaties are silent regarding the inclusion of non-native species and none of the four treaties expressly lists any non-native species. The treaties list only species, families, or groups of birds containing members native to the United States.

An example is the fact that the treaty with Canada, in elaborating on a family that is large enough to include species not native to North America, references only those species or groups of species that are native to North America. Also, this treaty does not list any of the many groups of insectivorous birds that are native only to areas outside North America; rather, all of the groups of this type that are listed occur in North America. The later treaties also are consistent with this interpretation. The treaties with Japan and Russia actually list the species covered (as opposed to listing families or groups) and all of the species exist naturally in United States territory.

This interpretation is also based on the overall purposes and goals of the treaties, which are to protect birds from extinction, protect their value as a food supply, and protect agricultural interests and forests from pests controlled by birds. If the MBTA were applied to protect introduced non-native birds it would likely not further any of these goals. Moreover, it would promote competition with native species for resources needed for survival.

A species is not protected by the MBTA if it falls into one or more of the following categories:

(1) Species intentionally or unintentionally introduced into the United States, even those that belong to a family or group covered by the Canadian or Mexican treaties. Examples include Mute Swan (Cygnus olor), a member of the family Anatidae, and Rock Dove (Columba livia), a member of the family Columbidae.

(2) Species that may have been sighted but are of purely accidental occurrence in the United States, unless either the Japanese or Russian treaty (both of which list birds by individual species) specifically includes it. Examples include Green Sandpiper and Japanese Turtle-Dove.

(3) Members of families or groups not specified by the Canadian or Mexican treaties. Examples include species in the families Phasianidae (grouse and turkeys), Odontophoridae (quail), Psittacidae (parrots), Todidae (todies), Meliphagidae (honeyeaters), Monarchidae (monarchs), Timaliidae (wrentits), and Coerebidae (bananaquits); and the subfamily Drepanidinae (Hawaiian honeycreepers).

Does the Proposed Rule Comply With NEPA?

This regulation is categorically excluded from further National Environmental Policy Act requirements under Part 516 of the Department Manual, Chapter 2, Appendix 1.10.

Does the Proposed Rule Comply With the Endangered Species Act?

Yes. A number of species appearing on the List of Migratory Birds are also designated as endangered or threatened under provisions of the Endangered Species Act of 1973 (16 U.S.C. 1531, et seq.; see 50 CFR 17.11). No legal complications arise from the dual listing since the two lists are developed under separate authorities and for different purposes.

What About Other Required Determinations?

Because the proposed revision to the List of Migratory Birds will merely re-describe the birds already protected by Federal treaties with Canada, Japan, Mexico, and Russia, we determined that this document will not have a significant economic effect on a substantial number of small entities under the Regulatory Flexibility Act (5 U.S.C. 601 et seq.).

This document has not been reviewed by the Office of Management and Budget under Executive Order 12866. In accordance with the criteria in Executive Order 12866, this proposed rule is not a significant regulatory action.

This proposed rule is not a major rule under the terms of 5 U.S.C. 804(2), the Small Business Regulatory Enforcement Fairness Act.

The proposed rule does not contain information collection requirements that must be approved by the Office of Management and Budget under the Paperwork Reduction Act of 1995 (44 U.S.C. 3501 et seq.).

We find and certify, in compliance with the requirements of the Unfunded Mandates Reform Act of 1995 (2 U.S.C. 1502 et seq.), that the proposed rule is not a significant regulatory action and will not impose a cost of $100 million or more in any given year on local or State government or private entities.

As noted above, the proposed rule will not have sufficient federalism implications to warrant the preparation of a Federalism Assessment under Executive Order 13132.

We have determined that these regulations will meet the applicable standards provided in sections 3(a) and 3(b)(2) of Executive Order 12988 for civil justice reform.

This rule will not have significant takings implications for private property, as defined in Executive Order 12630. A takings implication assessment is not required because migratory birds are a Federally managed resource under laws implementing international treaties and are not personal property.

Regarding Government-to-Government relationships with Tribes (59 FR 22951) and Executive Order 13175, the proposed revisions to existing regulations are purely administrative in nature. They will have no effect on Federally recognized Tribes or Tribal trust resources.

Public Comments Invited

We invite interested parties to submit written comments, suggestions, or objections regarding this proposal to one of the locations identified in the Addresses section above. Following review and consideration of the comments, we will issue a final rule on these proposed amendments to the List of Migratory Birds.

Author

John L. Trapp, U.S. Fish and Wildlife Service, Division of Migratory Bird Management, 4401 North Fairfax Drive, Room 634, Arlington, VA 22203.

List of Subjects in 50 CFR Part 10

Exports, Fish, Imports, Law enforcement, Plants, Transportation, Wildlife.

Regulation Promulgation

For the reasons discussed in the preamble, we propose to amend title 50, chapter I, subchapter B, part 10 of the Code of Federal Regulations, as follows:

PART 10—[PROPOSED]

1. The authority citation for part 10 continues to read as follows:

Authority: 18 U.S.C. 42; 16 U.S.C. 703-712; 16 U.S.C. 668a-d; 19 U.S.C. 1202; 16 U.S.C. 1531-1543; 16 U.S.C. 1361-1384, 1401-1407; 16 U.S.C. 742a-742j-l; 16 U.S.C. 3371-3378.

2. Revise Section 10.13 to read as follows:

§ 10.13 List of Migratory Birds.

(a) What is the legal authority for this list? The Migratory Bird Treaty Act (MBTA) in 16 U.S.C. 703-711, the Fish and Wildlife Improvement Act of 1978, 16 U.S.C. 712, and 16 U.S.C. 742a-j. The MBTA implements treaties between the United States and four neighboring countries for the protection of migratory birds, as follows:

(1) Canada: Convention for the Protection of Migratory Birds, August 16, 1916, United States-Great Britain (on behalf of Canada), 39 Stat. 1702, T.S. No. 628;

(2) Mexico: Convention for the Protection of Migratory Birds and Game Mammals, February 7, 1936, United States-United Mexican States (=Mexico), 50 Stat. 1311, T.S. No. 912;

(3) Japan: Convention for the Protection of Migratory Birds and Birds in Danger of Extinction, and Their Environment, March 4, 1972, United States-Japan, 25 U.S.T., 3329 T.I.A.S. No. 7990; and

(4) Russia: Convention for the Conservation of Migratory Birds and Their Environment, United States-Union of Soviet Socialist Republics (=Russia), November 26, 1976, 92 Stat. 3110, T.I.A.S. 9073, 16 U.S.C. 703, 712.

(b) What is the purpose of this list? The purpose is to inform the public of the species protected by regulations designed to enforce the terms of the MBTA. These regulations are found in Parts 10, 20, and 21 of this Chapter. We regulate most aspects of the taking, possession, transportation, sale, purchase, barter, exportation, and importation of migratory birds.

(c) What species are protected as migratory birds? The species are listed in two formats to suit the varying needs of the user: alphabetically in paragraph (c)(1) of this section and taxonomically in section (c)(2). Taxonomy and nomenclature follow the 7th (1998) edition of the American Ornithologists' Union's Check-list of North American birds, as amended. Species not listed here, and therefore not protected by the MBTA, include any species introduced in the United States or any of its territory by humans, regardless of whether the introduction was intentional or unintentional. Also generally not listed and thus not protected are species of purely accidental or casual occurrence in the United States or its territory unless it is a particular species specifically referenced in a treaty. A species of accidental or casual occurrence is one whose the normal range is far enough removed from the United States as to make regular occurrence unlikely or “improbable” (The A.O.U. Check-list of North American birds, 6th edition, 1983:xxv).

(1) Alphabetical listing. Species are listed alphabetically by common (English) name groups, with the scientific name of each species following the common name.

ACCENTOR, Siberian, Prunella montanella

ALBATROSS, Black-footed, Phoebastria nigripes

Laysan, Phoebastria immutabilis

Short-tailed, Phoebastria albatrus

Yellow-nosed, Thalassarche chlororhynchos

ANHINGA, Anhinga anhinga

ANI, Groove-billed, Crotophaga sulcirostris

Smooth-billed, Crotophaga ani

AUKLET, Cassin's, Ptychoramphus aleuticus

Crested, Aethia cristatella

Least, Aethia pusilla

Parakeet, Aethia psittacula

Rhinoceros, Cerorhinca monocerata

Whiskered, Aethia pygmaea

AVOCET, American, Recurvirostra americana

BEARDLESS-TYRANNULET, Northern, Camptostoma imberbe

BECARD, Rose-throated, Pachyramphus aglaiae

BITTERN, American, Botaurus lentiginosus

Least, Ixobrychus exilis

Schrenk's, Ixobrychus eurhythmus

Yellow, Ixobrychus sinensis

BLACK-HAWK, Common, Buteogallus anthracinus

BLACKBIRD, Brewer's, Euphagus cyanocephalus

Red-winged, Agelaius phoeniceus

Rusty, Euphagus carolinus

Tawny-shouldered, Agelaius humeralis

Tricolored, Agelaius tricolor

Yellow-headed, Xanthocephalus xanthocephalus

Yellow-shouldered, Agelaius xanthomus

BLUEBIRD, Eastern, Sialia sialis

Mountain, Sialia currucoides

Western, Sialia mexicana

BLUETHROAT, Luscinia svecica

BOBOLINK, Dolichonyx oryzivorus

BOOBY, Blue-footed, Sula nebouxii

Brown, Sula leucogaster

Masked, Sula dactylatra

Red-footed, Sula sula

BRAMBLING, Fringilla montifringilla

BRANT, Branta bernicla

BUFFLEHEAD, Bucephala albeola

BULLFINCH, Eurasian, Pyrrhula pyrrhula

Puerto Rican, Loxigilla portoricensis

BUNTING, Indigo, Passerina cyanea

Lark, Calamospiza melanocorys

Lazuli, Passerina amoena

McKay's, Plectrophenax hyperboreus

Painted, Passerina ciris

Pallas's, Emberiza pallasi

Reed, Emberiza schoeniculus

Rustic, Emberiza rustica

Snow, Plectrophenax nivalis

Varied, Passerina versicolor

BUSHTIT, Psaltriparus minimus

CANVASBACK, Aythya valisneria

CARACARA, Crested, Caracara cheriway

CARDINAL, Northern, Cardinalis cardinalis

CARIB, Green-throated, Eulampis holosericeus

CATBIRD, Gray, Dumetella carolinensis

CHAT, Yellow-breasted, Icteria virens

CHICKADEE, Black-capped, Poecile atricapilla

Boreal, Poecile hudsonica

Carolina, Poecile carolinensis

Chestnut-backed, Poecile rufescens

Gray-headed, Poecile cincta

Mexican, Poecile sclateri

Mountain, Poecile gambeli

CHUCK-WILL'S-WIDOW, Caprimulgus carolinensis

CONDOR, California, Gymnogyps californianus

COOT, American, Fulica americana

Caribbean, Fulica caribaea

Eurasian, Fulica atra

Hawaiian, Fulica alai

CORMORANT, Brandt's, Phalacrocorax penicillatus

Double-crested, Phalacrocorax auritus

Great, Phalacrocorax carbo

Neotropic, Phalacrocorax brasilianus

Pelagic, Phalacrocorax pelagicus

Red-faced, Phalacrocorax urile

COWBIRD, Bronzed, Molothrus aeneus

Brown-headed, Molothrus ater

Shiny, Molothrus bonariensis

CRAKE, Corn, Crex crex

Yellow-breasted, Porzana flaviventer

CRANE, Common, Grus grus

Sandhill, Grus canadensis

Whooping, Grus americana

CREEPER, Brown, Certhia americana

CROSSBILL, Red, Loxia curvirostra

White-winged, Loxia leucoptera

CROW, American, Corvus brachyrhynchos

Fish, Corvus ossifragus

Hawaiian, Corvus hawaiiensis

Northwestern, Corvus caurinus

Tamaulipas, Corvus imparatus

White-necked, Corvus leucognaphalus

CUCKOO, Black-billed, Coccyzus erythropthalmus

Common, Cuculus canorus

Mangrove, Coccyzus minor

Oriental, Cuculus saturatus

Yellow-billed, Coccyzus americanus

CURLEW, Bristle-thighed, Numenius tahitiensis

Eskimo, Numenius borealis

Far Eastern, Numenius madagascariensis

Little, Numenius minutus

Long-billed, Numenius americanus

DICKCISSEL, Spiza americana

DIPPER, American, Cinclus mexicanus

DOTTEREL, Eurasian, Charadrius morinellus

DOVE, Inca, Columbina inca

Mourning, Zenaida macroura

White-tipped, Leptotila verreauxi

White-winged, Zenaida asiatica

Zenaida, Zenaida aurita

DOVEKIE, Alle alle

DOWITCHER, Long-billed, Limnodromus scolopaceus

Short-billed, Limnodromus griseus

DUCK, American Black, Anas rubripes

Falcated, Anas falcata

Harlequin, Histrionicus histrionicus

Hawaiian, Anas wyvilliana

Laysan, Anas laysanensis

Long-tailed, Clangula hyemalis

Masked, Nomonyx dominica

Mottled, Anas fulvigula

Ring-necked, Aythya collaris

Ruddy, Oxyura jamaicensis

Spot-billed, Anas poecilorhyncha

Tufted, Aythya fuligula

Wood, Aix sponsa

DUNLIN, Calidris alpina

EAGLE, Bald, Haliaeetus leucocephalus

Golden, Aquila chrysaetos

White-tailed, Haliaeetus albicilla

EGRET, Cattle, Bubulcus ibis

Chinese, Egretta eulophotes

Great, Ardea alba

Intermediate, Mesophoyx intermedia

Reddish, Egretta rufescens

Snowy, Egretta thula

EIDER, Common, Somateria mollissima

King, Somateria spectabilis

Spectacled, Somateria fischeri

Steller's, Polysticta stelleri

ELAENIA, Caribbean, Elaenia martinica

EMERALD, Puerto Rican, Chlorostilbon maugaeus

EUPHONIA, Antillean, Euphonia musica

FALCON, Aplomado, Falco femoralis

Peregrine, Falco peregrinus

Prairie, Falco mexicanus

FIELDFARE, Turdus pilaris

FINCH, Cassin's, Carpodacus cassinii

House, Carpodacus mexicanus

Purple, Carpodacus purpureus

FLAMINGO, Greater, Phoenicopterus ruber

FLICKER, Gilded, Colaptes chrysoides

Northern, Colaptes auratus

FLYCATCHER, Acadian, Empidonax virescens

Alder, Empidonax alnorum

Ash-throated, Myiarchus cinerascens

Brown-crested, Myiarchus tyrannulus

Buff-breasted, Empidonax fulvifrons

Cordilleran, Empidonax occidentalis

Dusky, Empidonax oberholseri

Dusky-capped, Myiarchus tuberculifer

Fork-tailed, Tyrannus savana

Gray, Empidonax wrightii

Gray-spotted, Muscicapa griseisticta

Great Crested, Myiarchus crinitus

Hammond's, Empidonax hammondii

Least, Empidonax minimus

Narcissus, Muscicapa narcissina

Nutting's, Myiarchus nuttingi

Olive-sided, Contopus cooperi

Pacific-slope, Empidonax difficilis

Puerto Rican, Myiarchus antillarum

Scissor-tailed, Tyrannus forficatus

Sulphur-bellied, Myiodynastes luteiventris

Vermilion, Pyrocephalus rubinus

Willow, Empidonax traillii

Yellow-bellied, Empidonax flaviventris

FRIGATEBIRD, Great, Fregata minor

Lesser, Fregata ariel

Magnificent, Fregata magnificens

FULMAR, Northern, Fulmarus glacialis

GADWALL, Anas strepera

GALLINULE, Purple, Porphyrula martinica

GANNET, Northern, Morus bassanus

GARGANEY, Anas querquedula

GNATCATCHER, Black-capped, Polioptila nigriceps

Black-tailed, Polioptila melanura

Blue-gray, Polioptila caerulea

California, Polioptila californica

GODWIT, Bar-tailed, Limosa lapponica

Black-tailed, Limosa limosa

Hudsonian, Limosa haemastica

Marbled, Limosa fedoa

GOLDEN-PLOVER, American, Pluvialis dominica

Pacific, Pluvialis fulva

GOLDENEYE, Barrow's, Bucephala islandica

Common, Bucephala clangula

GOLDFINCH, American, Carduelis tristis

Lawrence's, Carduelis lawrencei

Lesser, Carduelis psaltria

GOOSE, Barnacle, Branta leucopsis

Bean, Anser fabalis

Canada, Branta canadensis

Emperor, Chen canagica

Greater White-fronted, Anser albifrons

Hawaiian, Branta sandvicensis

Ross's, Chen rossii

Snow, Chen caerulescens

GOSHAWK, Northern, Accipiter gentilis

GRACKLE, Boat-tailed, Quiscalus major

Common, Quiscalus quiscula

Great-tailed, Quiscalus mexicanus

Greater Antillean, Quiscalus niger

GRASSHOPPER-WARBLER, Middendorff's, Locustella ochotensis

GRASSQUIT, Black-faced, Tiaris bicolor

Yellow-faced, Tiaris olivacea

GREBE, Clark's, Aechmophorus clarkii

Eared, Podiceps nigricollis

Horned, Podiceps auritus

Least, Tachybaptus dominicus

Pied-billed, Podilymbus podiceps

Red-necked, Podiceps grisegena

Western, Aechmophorus occidentallis

GREENFINCH, Oriental, Carduelis sinica

GREENSHANK, Common, Tringa nebularia

GROSBEAK, Black-headed, Pheucticus melanocephalus

Blue, Guiraca caerulea

Crimson-collared, Rhodothraupis celaeno

Evening, Coccothraustes vespertinus

Pine, Pinicola enucleator

Rose-breasted, Pheucticus ludovicianus

Yellow, Pheucticus chrysopeplus

GROUND-DOVE, Common, Columbina passerina

Ruddy, Columbina talpacoti

GUILLEMOT, Black, Cepphus grylle

Pigeon, Cepphus columba

GULL, Black-headed, Larus ridibundus

Black-tailed, Larus crassirostris

Bonaparte's, Larus philadelphia

California, Larus californicus

Franklin's, Larus pipixcan

Glaucous, Larus hyperboreus

Glaucous-winged, Larus glaucescens

Great Black-backed, Larus marinus

Heermann's, Larus heermanni

Herring, Larus argentatus

Iceland, Larus glaucoides

Ivory, Pagophila eburnea

Laughing, Larus atricilla

Lesser Black-headed, Larus fuscus

Little, Larus minutus

Mew, Larus canus

Ring-billed, Larus delawarensis

Ross's, Rhodostethia rosea

Sabine's, Xema sabini

Slaty-backed, Larus schistisagus

Thayer's, Larus thayeri

Western, Larus occidentalis

Yellow-footed, Larus livens

GYRFALCON, Falco rusticolus

HARRIER, Northern, Circus cyaneus

HAWFINCH, Coccothraustes coccothraustes

HAWK, Broad-winged, Buteo platypterus

Cooper's, Accipiter cooperii

Ferruginous, Buteo regalis

Gray, Asturina nitidus

Harris's, Parabuteo unicinctus

Hawaiian, Buteo solitarius

Red-shouldered, Buteo lineatus

Red-tailed, Buteo jamaicensis

Rough-legged, Buteo lagopus

Sharp-shinned, Accipiter striatus

Short-tailed, Buteo brachyurus

Swainson's, Buteo swainsoni

White-tailed, Buteo albicaudatus

Zone-tailed, Buteo albonotatus

HAWK-CUCKOO, Hodgson's, Cuculus fugax

HERON, Great Blue, Ardea herodias

Green, Butorides virescens

Little Blue, Egretta caerulea

Tricolored, Egretta tricolor

HOOPOE, Eurasian, Upupa epops

HOUSE-MARTIN, Common, Delichon urbica

HUMMINGBIRD, Allen's, Selasphorus sasin

Anna's, Calypte anna

Antillean Crested, Orthorhynchus cristatus

Berylline, Amazilia beryllina

Black-chinned, Archilochus alexandri

Blue-throated, Lampornis clemenciae

Broad-billed, Cynanthus latirostris

Broad-tailed, Selasphorus platycercus

Buff-bellied, Amazilia yucatanensis

Calliope, Stellula calliope

Costa's, Calypte costae

Lucifer, Calothorax lucifer

Magnificent, Eugenes fulgens

Ruby-throated, Archilochus colubris

Rufous, Selasphorus rufus

Violet-crowned, Amazilia violiceps

White-eared, Hylocharis leucotis

IBIS, Glossy, Plegadis falcinellus

Scarlet, Eudocimus ruber

White, Eudocimus albus

White-faced, Plegadis chihi

JABIRU, Jabiru mycteria

JACANA, Northern, Jacana spinosa

JAEGER, Long-tailed, Stercorarius longicaudus

Parasitic, Stercorarius parasiticus

Pomarine, Stercorarius pomarinus

JAY, Blue, Cyanocitta cristata

Brown, Cyanocorax morio

Gray, Perisoreus canadensis

Green, Cyanocorax yncas

Mexican, Aphelocoma ultramarina

Pinyon, Gymnorhinus cyanocephalus

Steller's, Cyanocitta stelleri

JUNCO, Dark-eyed, Junco hyemalis

Yellow-eyed, Junco phaeonotus

KAMAO, Myadestes myadestinus

KESTREL, American, Falco sparverius

Eurasian, Falco tinnunculus

KILLDEER, Charadrius vociferus

KINGBIRD, Cassin's, Tyrannus vociferans

Couch's, Tyrannus couchii

Eastern, Tyrannus tyrannus

Gray, Tyrannus dominicensis

Loggerhead, Tyrannus caudifasciatus

Thick-billed, Tyrannus crassirostris

Tropical, Tyrannus melancholicus

Western, Tyrannus verticalis

KINGFISHER, Belted, Ceryle alcyon

Green, Chloroceryle americana

Ringed, Ceryle torquata

KINGLET, Golden-crowned, Regulus satrapa

Ruby-crowned, Regulus calendula

KISKADEE, Great, Pitangus sulphuratus

KITE, Black, Milvus migrans

Hook-billed, Chondrohierax uncinatus

Mississippi, Ictinia mississippiensis

Snail, Rostrhamus sociabilis

Swallow-tailed, Elanoides forficatus

White-tailed, Elanus leucurus

KITTIWAKE, Black-legged, Rissa tridactyla

Red-legged, Rissa brevirostris

KNOT, Great, Calidris tenuirostris

Red, Calidris canutus

LAPWING, Northern, Vanellus vanellus

LARK, Horned, Eremophila alpestris

Sky, Alauda arvensis

LIMPKIN, Aramus guarauna

LIZARD-CUCKOO, Puerto Rican, Saurothera vieilloti

LONGSPUR, Chestnut-collared, Calcarius ornatus

Lapland, Calcarius lapponicus

McCown's, Calcarius mccownii

Smith's, Calcarius pictus

LOON, Arctic, Gavia arctica

Common, Gavia immer

Pacific, Gavia pacifica

Red-throated, Gavia stellata

Yellow-billed, Gavia adamsii

MAGPIE, Black-billed, Pica hudsonia

Yellow-billed, Pica nuttalli

MALLARD, Anas platyrhynchos

MANGO, Antillean, Anthracothorax dominicus

Green, Anthracothorax viridis

MARTIN, Caribbean, Progne dominicensis

Cuban, Progne cryptoleuca

Gray-breasted, Progne chalybea

Purple, Progne subis

MEADOWLARK, Eastern, Sturnella magna

Western, Sturnella neglecta

MERGANSER, Common, Mergus merganser

Hooded, Lophodytes cucullatus

Red-breasted, Mergus serrator

MERLIN, Falco columbarius

MILLERBIRD, Acrocephalus familiaris

MOCKINGBIRD, Northern, Mimus polyglottos

MOORHEN, Common, Gallinula chloropus

MURRE, Common, Uria aalge

Thick-billed, Uria lomvia

MURRELET, Ancient, Synthliboramphus antiquus

Craveri's, Synthliboramphus craveri

Kittlitz's, Brachyramphus brevirostris

Marbled, Brachyramphus marmoratus

Xantus's, Synthliboramphus hypoleucus

NEEDLETAIL, White-throated, Hirundapus caudacutus

NIGHT-HERON, Black-crowned, Nycticorax nycticorax

Japanese, Gorsachius goisagi

Malayan, Gorsachius melanolophus

Yellow-crowned, Nyctanassa violacea

NIGHTHAWK, Antillean, Chordeiles gundlachii

Common, Chordeiles minor

Lesser, Chordeiles acutipennis

NIGHTJAR, Buff-collared, Caprimulgus ridgwayi

Puerto Rican, Caprimulgus noctitherus

Jungle, Caprimulgus indicus

NODDY, Black, Anous minutus

Blue-gray, Procelsterna cerulea

Brown, Anous stolidus

Lesser, Anous tenuirostris

NUTCRACKER, Clark's, Nucifraga columbiana

NUTHATCH, Brown-headed, Sitta pusilla

Pygmy, Sitta pygmaea

Red-breasted, Sitta canadensis

White-breasted, Sitta carolinensis

OLOMAO, Myadestes lanaiensis

OMAO, Myadestes obscurus

ORIOLE, Altamira, Icterus gularis

Audubon's, Icterus graduacauda

Baltimore, Icterus galbula

Black-vented, Icterus wagleri

Bullock's, Icterus bullockii

Greater Antillean, Icterus dominicensis

Hooded, Icterus cucullatus

Orchard, Icterus spurius

Scott's, Icterus parisorum

Streak-backed, Icterus pustulatus

OSPREY, Pandion haliaetus

OVENBIRD, Seiurus aurocapillus

OWL, Barn, Tyto alba

Barred, Strix varia

Boreal, Aegolius funereus

Burrowing, Athene cunicularia

Elf, Micrathene whitneyi

Flammulated, Otus flammeolus

Great Gray, Strix nebulosa

Great Horned, Bubo virginianus

Long-eared, Asio otus

Northern Hawk, Surnia ulula

Northern Saw-whet, Aegolius acadicus

Short-eared, Asio flammeus

Snowy, Nyctea scandiaca

Spotted, Strix occidentalis

OYSTERCATCHER, American, Haematopus palliatus

Black, Haematopus bachmani

PALM-SWIFT, Antillean, Tachornis phoenicobia

PARULA, Northern, Parula americana

Tropical, Parula pitiayumi

PAURAQUE, Common, Nyctidromus albicollis

PELICAN, American White, Pelecanus erythrorhynchos

Brown, Pelecanus occidentalis

PETREL, Black-capped, Pterodroma hasitata

Bonin, Pterodroma hypoleuca

Bulwer's, Bulweria bulwerii

Cook's, Pterodroma cookii

Dark-rumped, Pterodroma phaeopygia

Herald, Pterodroma arminjoniana

Juan Fernandez, Pterodroma externa

Kermadec, Pterodroma neglecta

Mottled, Pterodroma inexpectata

Murphy's, Pterodroma ultima

White-necked, Pterodroma cervicalis

PEWEE, Greater, Contopus pertinax

Lesser Antillean, Contopus latirostris

PHAINOPEPLA, Phainopepla nitens

PHALAROPE, Red, Phalaropus fulicaria

Red-necked, Phalaropus lobatus

Wilson's, Phalaropus tricolor

PHOEBE, Black, Sayornis nigricans

Eastern, Sayornis phoebe

Say's, Sayornis saya

PIGEON, Band-tailed, Columba fasciata

Plain, Columba inornata

Red-billed, Columba flavirostris

Scaly-naped, Columba squamosa

White-crowned, Columba leucocephala

PINTAIL, Northern, Anas acuta

White-cheeked, Anas bahamensis

PIPIT, American, Anthus rubescens

Olive-backed, Anthus hodgsoni

Pechora, Anthus gustavi

Red-throated, Anthus cervinus

Sprague's, Anthus spragueii

PLOVER, Black-bellied, Pluvialis squatarola

Common Ringed, Charadrius hiaticula

Greater Sand, Charadrius leschenaultii

Little Ringed, Charadrius dubius

Mongolian, Charadrius mongolus

Mountain, Charadrius montanus

Piping, Charadrius melodus

Semipalmated, Charadrius semipalmatus

Snowy, Charadrius alexandrinus

Wilson's, Charadrius wilsonia

POCHARD, Baer's, Aythya baeri

Common, Aythya ferina

POORWILL, Common, Phalaenoptilus nuttallii

PUAIOHI, Myadestes palmeri

PUFFIN, Atlantic, Fratercula arctica

Horned, Fratercula corniculata

Tufted, Fratercula cirrhata

PYGMY-OWL, Ferruginous, Glaucidium brasilianum

Northern, Glaucidium gnoma

PYRRHULOXIA, Cardinalis sinuatus

QUAIL-DOVE, Bridled, Geotrygon mystacea

Key West, Geotrygon chrysia

Ruddy, Geotrygon montana

RAIL, Black, Laterallus jamaicensis

Clapper, Rallus longirostris

King, Rallus elegans

Virginia, Rallus limicola

Yellow, Coturnicops noveboracensis

RAVEN, Chihuahuan, Corvus cryptoleucus

Common, Corvus corax

RAZORBILL, Alca torda

REDHEAD, Aythya americana

REDPOLL, Common, Carduelis flammea

Hoary, Carduelis hornemanni

REDSHANK, Spotted, Tringa erythropus

REDSTART, American, Setophaga ruticilla

Painted, Myioborus pictus

Slate-throated, Myioborus miniatus

REEF-EGRET, Pacific, Egretta sacra

ROADRUNNER, Greater, Geococcyx californianus

ROBIN, American, Turdus migratorius

Clay-colored, Turdus grayi

Rufous-backed, Turdus rufopalliatus

ROSEFINCH, Common, Carpodacus erythrinus

ROSY-FINCH, Black, Leucosticte atrata

Brown-capped, Leucosticte australis

Gray-crowned, Leucosticte tephrocotis

RUBYTHROAT, Siberian, Luscinia calliope

RUFF, Philomachus pugnax

SANDERLING, Calidris alba

SANDPIPER, Baird's, Calidris bairdii

Broad-billed, Limicola falcinellus

Buff-breasted, Tryngites subruficollis

Common, Actitis hypoleucos

Curlew, Calidris ferruginea

Least, Calidris minutilla

Marsh, Tringa stagnatilis

Pectoral, Calidris melanotos

Purple, Calidris maritima

Rock, Calidris ptilocnemis

Semipalmated, Calidris pusilla

Sharp-tailed, Calidris acuminata

Solitary, Tringa solitaria

Spoonbill, Eurynorhynchus pygmeus

Spotted, Actitis macularia

Stilt, Calidris himantopus

Terek, Xenus cinereus

Upland, Bartramia longicauda

Western, Calidris mauri

White-rumped, Calidris fuscicollis

Wood, Tringa glareola

SAPSUCKER, Red-breasted, Sphyrapicus ruber

Red-naped, Sphyrapicus nuchalis

Williamson's, Sphyrapicus thyroideus

Yellow-bellied, Sphyrapicus varius

SCAUP, Greater, Aythya marila

Lesser, Aythya affinis

SCOTER, Black, Melanitta nigra

Surf, Melanitta perspicillata

White-winged, Melanitta fusca

SCREECH-OWL, Eastern, Otus asio

Puerto Rican, Otus nudipes

Western, Otus kennicottii

Whiskered, Otus trichopsis

SCRUB-JAY, Florida, Aphelocoma coerulescens

Island, Aphelocoma insularis

Western, Aphelocoma californica

SEA-EAGLE, Steller's, Haliaeetus pelagicus

SEEDEATER, White-collared, Sporophila torqueola

SHEARWATER, Audubon's, Puffinus lherminieri

Black-vented, Puffinus opisthomelas

Buller's, Puffinus bulleri

Christmas, Puffinus nativitatis

Cory's, Calonectris diomedea

Flesh-footed, Puffinus carneipes

Greater, Puffinus gravis

Little, Puffinus assimilis

Manx, Puffinus puffinus

Pink-footed, Puffinus creatopus

Short-tailed, Puffinus tenuirostris

Sooty, Puffinus griseus

Townsend's, Puffinus auricularis

Wedge-tailed, Puffinus pacificus

SHOVELER, Northern, Anas clypeata

SHRIKE, Loggerhead, Lanius ludovicianus

Northern, Lanius excubitor

SISKIN, Pine, Carduelis pinus

SKIMMER, Black, Rhynchops niger

SKUA, Great, Stercorarius skua

South Polar, Stercorarius maccormicki

SMEW, Mergellus albellus

SNIPE, Common, Gallinago gallinago

Jack, Lymnocryptes minimus

Pin-tailed, Gallinago stenura

Swinhoe's, Gallinago megala

SOLITAIRE, Townsend's, Myadestes townsendi

SORA, Porzana carolina

SPARROW, American Tree, Spizella arborea

Bachman's, Aimophila aestivalis

Baird's, Ammodramus bairdii

Black-chinned, Spizella atrogularis

Black-throated, Amphispiza bilineata

Botteri's, Aimophila botterii

Brewer's, Spizella breweri

Cassin's, Aimophila cassinii

Chipping, Spizella passerina

Clay-colored, Spizella pallida

Field, Spizella pusilla

Five-striped, Aimophila quinquestriata

Fox, Passerella iliaca

Golden-crowned, Zonotrichia atricapilla

Grasshopper, Ammodramus savannarum

Harris's, Zonotrichia querula

Henslow's, Ammodramus henslowii

Lark, Chondestes grammacus

Le Conte's, Ammodramus leconteii

Lincoln's, Melospiza lincolnii

Nelson's Sharp-tailed, Ammodramus nelsoni

Olive, Arremonops rufivirgatus

Rufous-crowned, Aimophila ruficeps

Rufous-winged, Aimophila carpalis

Sage, Amphispiza belli

Savannah, Passerculus sandwichensis

Seaside, Ammodramus maritimus

Saltmarsh Sharp-tailed, Ammodramus caudacutus

Song, Melospiza melodia

Swamp, Melospiza georgiana

Vesper, Pooecetes gramineus

White-crowned, Zonotrichia leucophrys

White-throated, Zonotrichia albicollis

Worthen's, Spizella wortheni

SPARROWHAWK, Japanese, Accipiter gularis

SPINDALIS, Puerto Rican, Spindalis portoricensis

SPOONBILL, Roseate, Ajaia ajaja

STARLING, Chestnut-cheeked, Sturnus philippensis

White-cheeked, Sturnus cineraceus

STARTHROAT, Plain-capped, Heliomaster constantii

STILT, Black-necked, Himantopus mexicanus

STINT, Little, Calidris minuta

Long-toed, Calidris subminuta

Red-necked, Calidris ruficollis

Temminck's, Calidris temminckii

STORK, Wood, Mycteria americana

STORM-PETREL, Ashy, Oceanodroma homochroa

Band-rumped, Oceanodroma castro

Black, Oceanodroma melania

Fork-tailed, Oceanodroma furcata

Leach's, Oceanodroma leucorhoa

Least, Oceanodroma microsoma

Tristram's, Oceanodroma tristrami

Wedge-rumped, Oceanodroma tethys

White-faced, Pelagodroma marina

Wilson's, Oceanites oceanicus

SURFBIRD, Aphriza virgata

SWALLOW, Bahama, Tachycineta cyaneoviridis

Bank, Riparia riparia

Barn, Hirundo rustica

Cave, Petrochelidon fulva

Cliff, Petrochelidon pyrrhonota

Northern Rough-winged, Stelgidopteryx serripennis

Tree, Tachycineta bicolor

Violet-green, Tachycineta thalassina

SWAN, Trumpeter, Cygnus buccinator

Tundra, Cygnus columbianus

Whooper, Cygnus cygnus

SWIFT, Black, Crypseloides niger

Chimney, Chaetura pelagica

Common, Apus apus

Fork-tailed, Apus pacificus

Vaux's, Chaetura vauxi

White-collared, Streptoprocne zonaris

White-throated, Aeronautes saxatalis

TANAGER, Flame-colored, Piranga bidentata

Hepatic, Piranga flava

Puerto Rican, Neospingus speculiferus

Scarlet, Piranga olivacea

Summer, Piranga rubra

Western, Piranga ludoviciana

TATTLER, Gray-tailed, Heteroscelus brevipes

Wandering, Heteroscelus incanus

TEAL, Baikal, Anas formosa

Blue-winged, Anas discors

Cinnamon, Anas cyanoptera

Green-winged, Anas crecca

TERN, Aleutian, Sterna aleutica

Arctic, Sterna paradisaea

Black, Chlidonias niger

Black-naped, Sterna sumatrana

Bridled, Sterna anaethetus

Caspian, Sterna caspia

Common, Sterna hirundo

Elegant, Sterna elegans

Forster's, Sterna forsteri

Gray-backed, Sterna lunata

Gull-billed, Sterna nilotica

Least, Sterna antillarum

Little, Sterna albifrons

Roseate, Sterna dougallii

Royal, Sterna maxima

Sandwich, Sterna sandvicensis

Sooty, Sterna fuscata

White, Gygis alba

White-winged, Chlidonias leucopterus

THRASHER, Bendire's, Toxostoma bendirei

Brown, Toxostoma rufum

California, Toxostoma redivivum

Crissal, Toxostoma crissale

Curve-billed, Toxostoma curvirostre

Le Conte's, Toxostoma lecontei

Long-billed, Toxostoma longirostre

Pearly-eyed, Margarops fuscatus

Sage, Oreoscoptes montanus

THRUSH, Aztec, Ridgwayia pinicola

Bicknell's, Catharus bicknelli

Blue Rock, Monticola solitarius

Dusky, Turdus naumanni

Eyebrowed, Turdus obscurus

Gray-cheeked, Catharus minimus

Hermit, Catharus guttatus

Red-legged, Turdus plumbeus

Swainson's, Catharus ustulatus

Varied, Ixoreus naevius

Wood, Hylocichla mustelina

TITMOUSE, Bridled, Baeolophus wollweberi

Juniper, Baeolophus ridgwayi

Oak, Baeolophus inornatus

Tufted, Baeolophus bicolor

TOWHEE, Abert's, Pipilo aberti

California, Pipilo crissalis

Canyon, Pipilo fuscus

Eastern, Pipilo erythrophthalmus

Green-tailed, Pipilo chlorurus

Spotted, Pipilo maculatus

TROGON, Eared, Euptilotus neoxenus

Elegant, Trogon elegans

TROPICBIRD, Red-billed, Phaethon aethereus

Red-tailed, Phaethon rubricauda

White-tailed, Phaethon lepturus

TURNSTONE, Black, Arenaria melanocephala

Ruddy, Arenaria interpres

VEERY, Catharus fuscescens

VERDIN, Auriparus flaviceps

VIOLET-EAR, Green, Colibri thalassinus

VIREO, Bell's, Vireo bellii

Black-capped, Vireo atricapillus

Black-whiskered, Vireo altiloquus

Blue-headed, Vireo solitarius

Cassin's, Vireo cassinii

Gray, Vireo vicinior

Hutton's, Vireo huttoni

Philadelphia, Vireo philadelphicus

Plumbeous, Vireo plumbeus

Puerto Rican, Vireo latimeri

Red-eyed, Vireo olivaceus

Warbling, Vireo gilvus

White-eyed, Vireo griseus

Yellow-green, Vireo flavoviridis

Yellow-throated, Vireo flavifrons

VULTURE, Black, Coragyps atratus

Turkey, Cathartes aura

WAGTAIL, Black-backed, Motacilla lugens

Gray, Motacilla cinerea

White, Motacilla alba

Yellow, Motacilla flava

WARBLER, Adelaide's, Dendroica adelaidae

Arctic, Phylloscopus borealis

Bachman's, Vermivora bachmanii

Bay-breasted, Dendroica castanea

Black-and-white, Mniotilta varia

Black-throated Blue, Dendroica caerulescens

Black-throated Gray, Dendroica nigrescens

Black-throated Green, Dendroica virens

Blackburnian, Dendroica fusca

Blackpoll, Dendroica striata

Blue-winged, Vermivora pinus

Canada, Wilsonia canadensis

Cape May, Dendroica tigrina

Cerulean, Dendroica cerulea

Chestnut-sided, Dendroica pensylvanica

Colima, Vermivora crissalis

Connecticut, Oporornis agilis

Elfin-woods, Dendroica angelae

Golden-cheeked, Dendroica chrysoparia

Golden-crowned, Basileuterus culicivorus

Golden-winged, Vermivora chrysoptera

Grace's, Dendroica graciae

Hermit, Dendroica occidentalis

Hooded, Wilsonia citrina

Kentucky, Oporornis formosus

Kirtland's, Dendroica kirtlandii

Lucy's, Vermivora luciae

MacGillivray's, Oporornis tolmiei

Magnolia, Dendroica magnolia

Mourning, Oporornis philadelphia

Nashville, Vermivora ruficapilla

Olive, Peucedramus taeniatus

Orange-crowned, Vermivora celata

Palm, Dendroica palmarum

Pine, Dendroica pinus

Prairie, Dendroica discolor

Prothonotary, Protonotaria citrea

Red-faced, Cardellina rubrifrons

Rufous-capped, Basileuterus rufifrons

Swainson's, Limnothlypis swainsonii

Tennessee, Vermivora peregrina

Townsend's, Dendroica townsendi

Virginia's, Vermivora virginiae

Willow, Phylloscopus trochilus

Wilson's, Wilsonia pusilla

Worm-eating, Helmitheros vermivorus

Yellow, Dendroica petechia

Yellow-rumped, Dendroica coronata

Yellow-throated, Dendroica dominica

WATERTHRUSH, Louisiana, Seiurus motacilla

Northern, Seiurus noveboracensis

WAXWING, Bohemian, Bombycilla garrulus

Cedar, Bombycilla cedrorum

WHEATEAR, Northern, Oenanthe oenanthe

WHIMBREL, Numenius phaeopus

WHIP-POOR-WILL, Caprimulgus vociferus

WHISTLING-DUCK, Black-bellied, Dendrocygna autumnalis

Fulvous, Dendrocygna bicolor

West Indian, Dendrocygna arborea

WIGEON, American, Anas americana

Eurasian, Anas penelope

WILLET, Catoptrophorus semipalmatus

WOOD-PEWEE, Eastern, Contopus virens

Western, Contopus sordidulus

WOODCOCK, American, Scolopax minor

Eurasian, Scolopax rusticola

WOODPECKER, Acorn, Melanerpes formicivorus

Arizona, Picoides arizonae

Black-backed, Picoides arcticus

Downy, Picoides pubescens

Gila, Melanerpes uropygialis

Golden-fronted, Melanerpes aurifrons

Hairy, Picoides villosus

Ivory-billed, Campephilus principalis

Ladder-backed, Picoides scalaris

Lewis's, Melanerpes lewis

Nuttall's, Picoides nuttallii

Pileated, Dryocopus pileatus

Puerto Rican, Melanerpes portoricensis

Red-bellied, Melanerpes carolinus

Red-cockaded, Picoides borealis

Red-headed, Melanerpes erythrocephalus

Strickland's, Picoides stricklandi

Three-toed, Picoides tridactylus

White-headed, Picoides albolarvatus

WOODSTAR, Bahama, Calliphlox evelynae

WREN, Bewick's Thryothorus bewickii

Cactus, Campylorhynchus brunneicapillus

Canyon, Catherpes mexicanus

Carolina, Thryothorus ludovicianus

House, Troglodytes aedon

Marsh, Cistothorus palustris

Rock, Salpinctes obsoletus

Sedge, Cistothorus platensis

Winter, Troglodytes troglodytes

WRYNECK, Eurasian, Jynx torquilla

YELLOWLEGS, Greater, Tringa melanoleuca

Lesser, Tringa flavipes

YELLOWTHROAT, Common, Geothlypis trichas

Gray-crowned, Geothlypis poliocephala

(2) Taxonomic listing. Species are listed in phylogenetic sequence by scientific name, with the common (English) name following the scientific name. To help clarify species relationships, we also list the higher-level taxonomic categories of Order, Family, and Subfamily.

Order GAVIIFORMES

Family GAVIIDAE

Gavia stellata, Red-throated Loon

Gavia arctica, Arctic Loon

Gavia pacifica, Pacific Loon

Gavia immer, Common Loon

Gavia adamsii, Yellow-billed Loon

Order PODICIPEDIFORMES

Family PODICIPEDIDAE

Tachybaptus dominicus, Least Grebe

Podilymbus podiceps, Pied-billed Grebe

Podiceps auritus, Horned Grebe

Podiceps grisegena, Red-necked Grebe

Podiceps nigricollis, Eared Grebe

Aechmophorus occidentallis, Western Grebe

Aechmophorus clarkii, Clark's Grebe

Order PROCELLARIFORMES

Family DIOMEDEIDAE

Thalassarche chlororhynchos, Yellow-nosed Albatross

Phoebastria immutabilis, Laysan Albatross

Phoebastria nigripes, Black-footed Albatros

Phoebastria albatrus, Short-tailed Albatross

Family PROCELLARIIDAE

Fulmarus glacialis, Northern Fulmar

Pterodroma neglecta, Kermadec Petrel

Pterodroma arminjoniana, Herald Petrel

Pterodroma ultima, Murphy's Petrel

Pterodroma inexpectata, Mottled Petrel

Pterodroma hasitata, Black-capped Petrel

Pterodroma externa, Juan Fernandez Petrel

Pterodroma phaeopygia, Dark-rumped Petrel

Pterodroma cervicalis, White-necked Petrel

Pterodroma hypoleuca, Bonin Petrel

Pterodroma cookii, Cook's Petrel

Bulweria bulwerii, Bulwer's Petrel

Calonectris diomedea, Cory's Shearwater

Puffinus creatopus, Pink-footed Shearwater

Puffinus carneipes, Flesh-footed Shearwater

Puffinus gravis, Greater Shearwater

Puffinus pacificus, Wedge-tailed Shearwater

Puffinus bulleri, Buller's Shearwater

Puffinus griseus, Sooty Shearwater

Puffinus tenuirostris, Short-tailed Shearwater

Puffinus nativitatis, Christmas Shearwater

Puffinus puffinus, Manx Shearwater

Puffinus auricularis, Townsend's Shearwater

Puffinus opisthomelas, Black-vented Shearwater

Puffinus lherminieri, Audubon's Shearwater

Puffinus assimilis, Little Shearwater

Family HYDROBATIDAE

Oceanites oceanicus, Wilson's Storm-Petrel

Pelagodroma marina, White-faced Storm-Petrel

Oceanodroma furcata, Fork-tailed Storm-Petrel

Oceanodroma leucorhoa, Leach's Storm-Petrel

Oceanodroma homochroa, Ashy Storm-Petrel

Oceanodroma castro, Band-rumped Storm-Petrel

Oceanodroma tethys, Wedge-rumped Storm-Petrel

Oceanodroma melania, Black Storm-Petrel

Oceanodroma tristrami, Tristram's Storm-Petrel

Oceanodroma microsoma, Least Storm-Petrel

Order PELECANIFORMES

Family PHAETHONTIDAE

Phaethon lepturus, White-tailed Tropicbird

Phaethon aethereus, Red-billed Tropicbird

Phaethon rubricauda, Red-tailed Tropicbird

Family SULIDAE

Sula dactylatra, Masked Booby

Sula nebouxii, Blue-footed Booby

Sula leucogaster, Brown Booby

Sula sula, Red-footed Booby

Morus bassanus, Northern Gannet

Family PELECANIDAE

Pelecanus erythrorhynchos, American White Pelican

Pelecanus occidentalis, Brown Pelican

Family PHALACROCORACIDAE

Phalacrocorax penicillatus, Brandt's Cormorant

Phalacrocorax brasilianus, Neotropic Cormorant

Phalacrocorax auritus, Double-crested Cormorant

Phalacrocorax carbo, Great Cormorant

Phalacrocorax urile, Red-faced Cormorant

Phalacrocorax pelagicus, Pelagic Cormorant

Family ANHINGIDAE

Anhinga anhinga, Anhinga

Family FREGATIDAE

Fregata magnificens, Magnificent Frigatebird

Fregata minor, Great Frigatebird

Fregata ariel, Lesser Frigatebird

Order CICONIIFORMES

Family ARDEIDAE

Botaurus lentiginosus, American Bittern

Ixobrychus sinensis, Yellow Bittern

Ixobrychus exilis, Least Bittern

Ixobrychus eurhythmus, Schrenk's Bittern

Ardea herodias, Great Blue Heron

Ardea alba, Great Egret

Mesophoyx intermedia, Intermediate Egret

Egretta eulophotes, Chinese Egret

Egretta sacra, Pacific Reef-Egret

Egretta thula, Snowy Egret

Egretta caerulea, Little Blue Heron

Egretta tricolor, Tricolored Heron

Egretta rufescens, Reddish Egret

Bubulcus ibis, Cattle Egret

Butorides virescens, Green Heron

Nycticorax nycticorax, Black-crowned Night-Heron

Nyctanassa violacea, Yellow-crowned Night-Heron

Gorsachius goisagi, Japanese Night-Heron

Gorsachius melanolophus, Malayan Night-Heron

Family THRESKIORNITHIDAE

Subfamily Threskiornithinae

Eudocimus albus, White Ibis

Eudocimus ruber, Scarlet Ibis

Plegadis falcinellus, Glossy Ibis

Plegadis chihi, White-faced Ibis

Subfamily Plataleinae

Ajaia ajaja, Roseate Spoonbill

Family CICONIIDAE

Jabiru mycteria, Jabiru

Mycteria americana, Wood Stork

Family CATHARTIDAE

Coragyps atratus, Black Vulture

Cathartes aura, Turkey Vulture

Gymnogyps californianus, California Condor

Order PHOENICOPTERIFORMES

Family PHOENICOPTERIDAE

Phoenicopterus ruber, Greater Flamingo

Order ANSERIFORMES

Family ANATIDAE

Subfamily Dendrocygninae

Dendrocygna autumnalis, Black-bellied Whistling-Duck

Dendrocygna arborea, West Indian Whistling-Duck

Dendrocygna bicolor, Fulvous Whistling-Duck

Subfamily Anserinae

Anser fabalis, Bean Goose

Anser albifrons, Greater White-fronted Goose

Chen canagica, Emperor Goose

Chen caerulescens, Snow Goose

Chen rossii, Ross's Goose

Branta canadensis, Canada Goose

Branta sandvicensis, Hawaiian Goose

Branta bernicla, Brant

Branta leucopsis, Barnacle Goose

Cygnus buccinator, Trumpeter Swan

Cygnus columbianus, Tundra Swan

Cygnus cygnus, Whooper Swan

Subfamily Anatinae

Aix sponsa, Wood Duck

Anas strepera, Gadwall

Anas falcata, Falcated Duck

Anas penelope, Eurasian Wigeon

Anas americana, American Wigeon

Anas rubripes, American Black Duck

Anas platyrhynchos, Mallard

Anas fulvigula, Mottled Duck

Anas wyvilliana, Hawaiian Duck

Anas laysanensis, Laysan Duck

Anas poecilorhyncha, Spot-billed Duck

Anas discors, Blue-winged Teal

Anas cyanoptera, Cinnamon Teal

Anas clypeata, Northern Shoveler

Anas bahamensis, White-cheeked Pintail

Anas acuta, Northern Pintail

Anas querquedula, Garganey

Anas formosa, Baikal Teal

Anas crecca, Green-winged Teal

Aythya valisneria, Canvasback

Aythya americana, Redhead

Aythya ferina, Common Pochard

Aythya baeri, Baer's Pochard

Aythya collaris, Ring-necked Duck

Aythya fuligula, Tufted Duck

Aythya marila, Greater Scaup

Aythya affinis, Lesser Scaup

Polysticta stelleri, Steller's Eider

Somateria fischeri, Spectacled Eider

Somateria spectabilis, King Eider

Somateria mollissima, Common Eider

Histrionicus histrionicus, Harlequin Duck

Melanitta perspicillata, Surf Scoter

Melanitta fusca, White-winged Scoter

Melanitta nigra, Black Scoter

Clangula hyemalis, Long-tailed Duck

Bucephala albeola, Bufflehead

Bucephala clangula, Common Goldeneye

Bucephala islandica, Barrow's Goldeneye

Mergellus albellus, Smew

Lophodytes cucullatus, Hooded Merganser

Mergus merganser, Common Merganser

Mergus serrator, Red-breasted Merganser

Nomonyx dominica, Masked Duck

Oxyura jamaicensis, Ruddy Duck

Order FALCONIFORMES

Family ACCIPITRIDAE

Subfamily Pandioninae

Pandion haliaetus, Osprey

Subfamily Accipitrinae

Chondrohierax uncinatus, Hook-billed Kite

Elanoides forficatus, Swallow-tailed Kite

Elanus leucurus, White-tailed Kite

Rostrhamus sociabilis, Snail Kite

Ictinia mississippiensis, Mississippi Kite

Milvus migrans, Black Kite

Haliaeetus leucocephalus, Bald Eagle

Haliaeetus albicilla, White-tailed Eagle

Haliaeetus pelagicus, Steller's Sea-Eagle

Circus cyaneus, Northern Harrier

Accipiter gularis, Japanese Sparrowhawk

Accipiter striatus, Sharp-shinned Hawk

Accipiter cooperii, Cooper's Hawk

Accipiter gentilis, Northern Goshawk

Asturina nitida, Gray Hawk

Buteogallus anthracinus, Common Black-Hawk

Parabuteo unicinctus, Harris's Hawk

Buteo lineatus, Red-shouldered Hawk

Buteo platypterus, Broad-winged Hawk

Buteo brachyurus, Short-tailed Hawk

Buteo swainsoni, Swainson's Hawk

Buteo albicaudatus, White-tailed Hawk

Buteo albonotatus, Zone-tailed Hawk

Buteo solitarius, Hawaiian Hawk

Buteo jamaicensis, Red-tailed Hawk

Buteo regalis, Ferruginous Hawk

Buteo lagopus, Rough-legged Hawk

Aquila chrysaetos, Golden Eagle

Family FALCONIDAE

Subfamily Caracarinae

Caracara cheriway, Crested Caracara

Subfamily Falconinae

Falco tinnunculus, Eurasian Kestrel

Falco sparverius, American Kestrel

Falco columbarius, Merlin

Falco femoralis, Aplomado Falcon

Falco rusticolus, Gyrfalcon

Falco peregrinus, Peregrine Falcon

Falco mexicanus, Prairie Falcon

Order GRUIFORMES

Family RALLIDAE

Coturnicops noveboracensis, Yellow Rail

Laterallus jamaicensis, Black Rail

Crex crex, Corn Crake

Rallus longirostris, Clapper Rail

Rallus elegans, King Rail

Rallus limicola, Virginia Rail

Porzana carolina, Sora

Porzana flaviventer, Yellow-breasted Crake

Porphyrula martinica, Purple Gallinule

Gallinula chloropus, Common Moorhen

Fulica atra, Eurasian Coot

Fulica alai, Hawaiian Coot

Fulica americana, American Coot

Fulica caribaea, Caribbean Coot

Family ARAMIDAE

Aramus guarauna, Limpkin

Family GRUIDAE

Grus canadensis, Sandhill Crane

Grus grus, Common Crane

Grus americana, Whooping Crane

Order CHARADRIIFORMES

Family CHARADRIIDAE

Subfamily Vanellinae

Vanellus vanellus, Northern Lapwing

Subfamily Charadriinae

Pluvialis squatarola, Black-bellied Plover

Pluvialis dominica, American Golden-Plover

Pluvialis fulva, Pacific Golden-Plover

Charadrius mongolus, Mongolian Plover

Charadrius leschenaultii, Greater Sand Plover

Charadrius alexandrinus, Snowy Plover

Charadrius wilsonia, Wilson's Plover

Charadrius hiaticula, Common Ringed Plover

Charadrius semipalmatus, Semipalmated Plover

Charadrius melodus, Piping Plover

Charadrius dubius, Little Ringed Plover

Charadrius vociferus, Killdeer

Charadrius montanus, Mountain Plover

Charadrius morinellus, Eurasian Dotterel

Family HAEMATOPODIDAE

Haematopus palliatus, American Oystercatcher

Haematopus bachmani, Black Oystercatcher

Family RECURVIROSTRIDAE

Himantopus mexicanus, Black-necked Stilt

Recurvirostra americana, American Avocet

Family JACANIDAE

Jacana spinosa, Northern Jacana

Family SCOLOPACIDAE

Subfamily Scolopacinae

Tringa nebularia, Common Greenshank

Tringa melanoleuca, Greater Yellowlegs

Tringa flavipes, Lesser Yellowlegs

Tringa stagnatilis, Marsh Sandpiper

Tringa erythropus, Spotted Redshank

Tringa glareola, Wood Sandpiper

Tringa solitaria, Solitary Sandpiper

Catoptrophorus semipalmatus, Willet

Heteroscelus incanus, Wandering Tattler

Heteroscelus brevipes, Gray-tailed Tattler

Actitis hypoleucos, Common Sandpiper

Actitis macularia, Spotted Sandpiper

Xenus cinereus, Terek Sandpiper

Bartramia longicauda, Upland Sandpiper

Numenius minutus, Little Curlew

Numenius borealis, Eskimo Curlew

Numenius phaeopus, Whimbrel

Numenius tahitiensis, Bristle-thighed Curlew

Numenius madagascariensis, Far Eastern Curlew

Numenius americanus, Long-billed Curlew

Limosa limosa, Black-tailed Godwit

Limosa haemastica, Hudsonian Godwit

Limosa lapponica, Bar-tailed Godwit

Limosa fedoa, Marbled Godwit

Arenaria interpres, Ruddy Turnstone

Arenaria melanocephala, Black Turnstone

Aphriza virgata, Surfbird

Calidris tenuirostris, Great Knot

Calidris canutus, Red Knot

Calidris alba, Sanderling

Calidris pusilla, Semipalmated Sandpiper

Calidris mauri, Western Sandpiper

Calidris ruficollis, Red-necked Stint

Calidris minuta, Little Stint

Calidris temminckii, Temminck's Stint

Calidris subminuta, Long-toed Stint

Calidris minutilla, Least Sandpiper

Calidris fuscicollis, White-rumped Sandpiper

Calidris bairdii, Baird's Sandpiper

Calidris melanotos, Pectoral Sandpiper

Calidris acuminata, Sharp-tailed Sandpiper

Calidris maritima, Purple Sandpiper

Calidris ptilocnemis, Rock Sandpiper

Calidris alpina, Dunlin

Calidris ferruginea, Curlew Sandpiper

Calidris himantopus, Stilt Sandpiper

Eurynorhynchus pygmeus, Spoonbill Sandpiper

Limicola falcinellus, Broad-billed Sandpiper

Tryngites subruficollis, Buff-breasted Sandpiper

Philomachus pugnax, Ruff

Limnodromus griseus, Short-billed Dowitcher

Limnodromus scolopaceus, Long-billed Dowitcher

Lymnocryptes minimus, Jack Snipe

Gallinago gallinago, Common Snipe

Gallinago stenura, Pin-tailed Snipe

Gallinago megala, Swinhoe's Snipe

Scolopax rusticola, Eurasian Woodcock

Scolopax minor, American Woodcock

Phalaropodinae

Phalaropus tricolor, Wilson's Phalarope

Phalaropus lobatus, Red-necked Phalarope

Phalaropus fulicaria, Red Phalarope

Family LARIDAE

Subfamily Stercorariinae

Stercorarius skua, Great Skua

Stercorarius maccormicki, South Polar Skua

Stercorarius pomarinus, Pomarine Jaeger

Stercorarius parasiticus, Parasitic Jaeger

Stercorarius longicaudus, Long-tailed Jaeger

Subfamily Larinae

Larus atricilla, Laughing Gull

Larus pipixcan, Franklin's Gull

Larus minutus, Little Gull

Larus ridibundus, Black-headed Gull

Larus philadelphia, Bonaparte's Gull

Larus heermanni, Heermann's Gull

Larus crassirostris, Black-tailed Gull

Larus canus, Mew Gull

Larus delawarensis, Ring-billed Gull

Larus californicus, California Gull

Larus argentatus, Herring Gull

Larus thayeri, Thayer's Gull

Larus glaucoides, Iceland Gull

Larus fuscus, Lesser Black-backed Gull

Larus schistisagus, Slaty-backed Gull

Larus livens, Yellow-footed Gull

Larus occidentalis, Western Gull

Larus glaucescens, Glaucous-winged Gull

Larus hyperboreus, Glaucous Gull

Larus marinus, Great Black-backed Gull

Xema sabini, Sabine's Gull

Rissa tridactyla, Black-legged Kittiwake

Rissa brevirostris, Red-legged Kittiwake

Rhodostethia rosea, Ross's Gull

Pagophila eburnea, Ivory Gull

Subfamily Sterninae

Sterna nilotica, Gull-billed Tern

Sterna caspia, Caspian Tern

Sterna maxima, Royal Tern

Sterna elegans, Elegant Tern

Sterna sandvicensis, Sandwich Tern

Sterna dougallii, Roseate Tern

Sterna hirundo, Common Tern

Sterna paradisaea, Arctic Tern

Sterna forsteri, Forster's Tern

Sterna albifrons, Little Tern

Sterna antillarum, Least Tern

Sterna sumatrana, Black-naped Tern

Sterna aleutica, Aleutian Tern

Sterna lunata, Gray-backed Tern

Sterna anaethetus, Bridled Tern

Sterna fuscata, Sooty Tern

Chlidonias leucopterus, White-winged Tern

Chlidonias niger, Black Tern

Anous stolidus, Brown Noddy

Anous minutus, Black Noddy

Anous tenuirostris, Lesser Noddy

Procelsterna cerulea, Blue-gray Noddy

Gygis alba, White Tern

Subfamily Rynchopinae

Rynchops niger, Black Skimmer

Family ALCIDAE

Alle alle, Dovekie

Uria aalge, Common Murre

Uria lomvia, Thick-billed Murre

Alca torda, Razorbill

Cepphus grylle, Black Guillemot

Cepphus columba, Pigeon Guillemot

Brachyramphus marmoratus, Marbled Murrelet

Brachyramphus brevirostris, Kittlitz's Murrelet

Synthliboramphus hypoleucus, Xantus's Murrelet

Synthliboramphus craveri, Craveri's Murrelet

Synthliboramphus antiquus, Ancient Murrelet

Ptychoramphus aleuticus, Cassin's Auklet

Aethia psittacula, Parakeet Auklet

Aethia pusilla, Least Auklet

Aethia pygmaea, Whiskered Auklet

Aethia cristatella, Crested Auklet

Cerorhinca monocerata, Rhinoceros Auklet

Fratercula arctica, Atlantic Puffin

Fratercula corniculata, Horned Puffin

Fratercula cirrhata, Tufted Puffin

Order COLUMBIFORMES

Family COLUMBIDAE

Columba squamosa, Scaly-naped Pigeon

Columba leucocephala, White-crowned Pigeon

Columba flavirostris, Red-billed Pigeon

Columba inornata, Plain Pigeon

Columba fasciata, Band-tailed Pigeon

Zenaida asiatica, White-winged Dove

Zenaida aurita, Zenaida Dove

Zenaida macroura, Mourning Dove

Columbina inca, Inca Dove

Columbina passerina, Common Ground-Dove

Columbina talpacoti, Ruddy Ground-Dove

Leptotila verreauxi, White-tipped Dove

Geotrygon chrysia, Key West Quail-Dove

Geotrygon mystacea, Bridled Quail-Dove

Geotrygon montana, Ruddy Quail-Dove

Order CUCULIFORMES

Family CUCULIDAE

Subfamily Cuculinae

Cuculus canorus, Common Cuckoo

Cuculus saturatus, Oriental Cuckoo

Cuculus fugax, Hodgson's Hawk-Cuckoo

Subfamily Coccyzinae

Coccyzus erythropthalmus, Black-billed Cuckoo

Coccyzus americanus, Yellow-billed Cuckoo

Coccyzus minor, Mangrove Cuckoo

Saurothera vieilloti, Puerto Rican Lizard-Cuckoo

Subfamily Neomorphinae

Geococcyx californianus, Greater Roadrunner

Subfamily Crotophaginae

Crotophaga ani, Smooth-billed Ani

Crotophaga sulcirostris, Groove-billed Ani

Order STRIGIFORMES

Family TYTONIDAE

Tyto alba, Barn Owl

Family STRIGIDAE

Otus flammeolus, Flammulated Owl

Otus kennicottii, Western Screech-Owl

Otus asio, Eastern Screech-Owl

Otus trichopsis, Whiskered Screech-Owl

Otus nudipes, Puerto Rican Screech-Owl

Bubo virginianus, Great Horned Owl

Nyctea scandiaca, Snowy Owl

Surnia ulula, Northern Hawk Owl

Glaucidium gnoma, Northern Pygmy-Owl

Glaucidium brasilianum, Ferruginous Pygmy-Owl

Micrathene whitneyi, Elf Owl

Athene cunicularia, Burrowing Owl

Strix occidentalis, Spotted Owl

Strix varia, Barred Owl

Strix nebulosa, Great Gray Owl

Asio otus, Long-eared Owl

Asio flammeus, Short-eared Owl

Aegolius funereus, Boreal Owl

Aegolius acadicus, Northern Saw-whet Owl

Order CAPRIMULGIFORMES

Family CAPRIMULGIDAE

Subfamily Chordeilinae

Chordeiles acutipennis, Lesser Nighthawk

Chordeiles minor, Common Nighthawk

Chordeiles gundlachii, Antillean Nighthawk

Subfamily Capimulginae

Nyctidromus albicollis, Common Pauraque

Phalaenoptilus nuttallii, Common Poorwill

Caprimulgus carolinensis, Chuck-will's-widow

Caprimulgus ridgwayi, Buff-collared Nightjar

Caprimulgus vociferus, Whip-poor-will

Caprimulgus noctitherus, Puerto Rican Nightjar

Caprimulgus indicus, Jungle Nightjar

Order APODIFORMES

Family APODIDAE

Subfamily Cypseloidinae

Crypseloides niger, Black Swift

Streptoprocne zonaris, White-collared Swift

Subfamily Chaeturinae

Chaetura pelagica, Chimney Swift

Chaetura vauxi, Vaux's Swift

Hirundapus caudacutus, White-throated Needletail

Subfamily Apodinae

Apus apus, Common Swift

Apus pacificus, Fork-tailed Swift

Aeronautes saxatalis, White-throated Swift

Tachornis phoenicobia, Antillean Palm-Swift

Family TROCHILIDAE

Subfamily Trochilinae

Colibri thalassinus, Green Violet-ear

Anthracothorax dominicus, Antillean Mango

Anthracothorax viridis, Green Mango

Eulampis holosericeus, Green-throated Carib

Orthorhynchus cristatus, Antillean Crested Hummingbird

Chlorostilbon maugaeus, Puerto Rican Emerald

Cynanthus latirostris, Broad-billed Hummingbird

Hylocharis leucotis, White-eared Hummingbird

Amazilia beryllina, Berylline Hummingbird

Amazilia yucatanensis, Buff-bellied Hummingbird

Amazilia violiceps, Violet-crowned Hummingbird

Lampornis clemenciae, Blue-throated Hummingbird

Eugenes fulgens, Magnificent Hummingbird

Heliomaster constantii, Plain-capped Starthroat

Calliphlox evelynae, Bahama Woodstar

Calothorax lucifer, Lucifer Hummingbird

Archilochus colubris, Ruby-throated Hummingbird

Archilochus alexandri, Black-chinned Hummingbird

Calypte anna, Anna's Hummingbird

Calypte costae, Costa's Hummingbird

Stellula calliope, Calliope Hummingbird

Selasphorus platycercus, Broad-tailed Hummingbird

Selasphorus rufus, Rufous Hummingbird

Selasphorus sasin, Allen's Hummingbird

Order TROGONIFORMES

Family TROGONIDAE

Subfamily Trogoninae

Trogon elegans, Elegant Trogon

Euptilotus neoxenus, Eared Trogon

Order UPUPIFORMES

Family UPUPIDAE

Upupa epops, Eurasian Hoopoe

Order CORACIIFORMES

Family ALCEDINIDAE

Subfamily Cerylinae

Ceryle torquata, Ringed Kingfisher

Ceryle alcyon, Belted Kingfisher

Chloroceryle americana, Green Kingfisher

Order PICIFORMES

Family PICIDAE

Subfamily Jynginae

Jynx torquilla, Eurasian Wryneck

Subfamily Picinae

Melanerpes lewis, Lewis's Woodpecker

Melanerpes portoricensis, Puerto Rican Woodpecker

Melanerpes erythrocephalus, Red-headed Woodpecker

Melanerpes formicivorus, Acorn Woodpecker

Melanerpes uropygialis, Gila Woodpecker

Melanerpes aurifrons, Golden-fronted Woodpecker

Melanerpes carolinus, Red-bellied Woodpecker

Sphyrapicus thyroideus, Williamson's Sapsucker

Sphyrapicus varius, Yellow-bellied Sapsucker

Sphyrapicus nuchalis, Red-naped Sapsucker

Sphyrapicus ruber, Red-breasted Sapsucker

Picoides scalaris, Ladder-backed Woodpecker

Picoides nuttallii, Nuttall's Woodpecker

Picoides pubescens, Downy Woodpecker

Picoides villosus, Hairy Woodpecker

Picoides arizonae, Arizona Woodpecker

Picoides stricklandi, Strickland's Woodpecker

Picoides borealis, Red-cockaded Woodpecker

Picoides albolarvatus, White-headed Woodpecker

Picoides tridactylus, Three-toed Woodpecker

Picoides arcticus, Black-backed Woodpecker

Colaptes auratus, Northern Flicker

Colaptes chrysoides, Gilded Flicker

Dryocopus pileatus, Pileated Woodpecker

Campephilus principalis, Ivory-billed Woodpecker

Order PASSERIFORMES

Family TYRANNIDAE

Subfamily Elaeniinae

Camptostoma imberbe, Northern Beardless-Tyrannulet

Elaenia martinica, Caribbean Elaenia

Subfamily Fluvicolinae

Contopus cooperi, Olive-sided Flycatcher

Contopus pertinax, Greater Pewee

Contopus sordidulus, Western Wood-Pewee

Contopus virens, Eastern Wood-Pewee

Contopus latirostris, Lesser Antillean Pewee

Empidonax flaviventris, Yellow-bellied Flycatcher

Empidonax virescens, Acadian Flycatcher

Empidonax alnorum, Alder Flycatcher

Empidonax traillii, Willow Flycatcher

Empidonax minimus, Least Flycatcher

Empidonax hammondii, Hammond's Flycatcher

Empidonax wrightii, Gray Flycatcher

Empidonax oberholseri, Dusky Flycatcher

Empidonax difficilis, Pacific-slope Flycatcher

Empidonax occidentalis, Cordilleran Flycatcher

Empidonax fulvifrons, Buff-breasted Flycatcher

Sayornis nigricans, Black Phoebe

Sayornis phoebe, Eastern Phoebe

Sayornis saya, Say's Phoebe

Pyrocephalus rubinus, Vermilion Flycatcher

Subfamily Tyranninae

Myiarchus tuberculifer, Dusky-capped Flycatcher

Myiarchus cinerascens, Ash-throated Flycatcher

Myiarchus nuttingi, Nutting's Flycatcher

Myiarchus crinitus, Great Crested Flycatcher

Myiarchus tyrannulus, Brown-crested Flycatcher

Myiarchus antillarum, Puerto Rican Flycatcher

Pitangus sulphuratus, Great Kiskadee

Myiodynastes luteiventris, Sulphur-bellied Flycatcher

Tyrannus melancholicus, Tropical Kingbird

Tyrannus couchii, Couch's Kingbird

Tyrannus vociferans, Cassin's Kingbird

Tyrannus crassirostris, Thick-billed Kingbird

Tyrannus verticalis, Western Kingbird

Tyrannus tyrannus, Eastern Kingbird

Tyrannus dominicensis, Gray Kingbird

Tyrannus caudifasciatus, Loggerhead Kingbird

Tyrannus forficatus, Scissor-tailed Flycatcher

Tyrannus savana, Fork-tailed Flycatcher

Pachyramphus aglaiae, Rose-throated Becard

Family LANIIDAE

Lanius ludovicianus, Loggerhead Shrike

Lanius excubitor, Northern Shrike

Family VIREONIDAE

Vireo griseus, White-eyed Vireo

Vireo latimeri, Puerto Rican Vireo

Vireo bellii, Bell's Vireo

Vireo atricapillus, Black-capped Vireo

Vireo vicinior, Gray Vireo

Vireo flavifrons, Yellow-throated Vireo

Vireo plumbeus, Plumbeous Vireo

Vireo cassinii, Cassin's Vireo

Vireo solitarius, Blue-headed Vireo

Vireo huttoni, Hutton's Vireo

Vireo gilvus, Warbling Vireo

Vireo philadelphicus, Philadelphia Vireo

Vireo olivaceus, Red-eyed Vireo

Vireo flavoviridis, Yellow-green Vireo

Vireo altiloquus, Black-whiskered Vireo

Family CORVIDAE

Perisoreus canadensis, Gray Jay

Cyanocitta stelleri, Steller's Jay

Cyanocitta cristata, Blue Jay

Cyanocorax yncas, Green Jay

Cyanocorax morio, Brown Jay

Aphelocoma coerulescens, Florida Scrub-Jay

Aphelocoma insularis, Island Scrub-Jay

Aphelocoma californica, Western Scrub-Jay

Aphelocoma ultramarina, Mexican Jay

Gymnorhinus cyanocephalus, Pinyon Jay

Nucifraga columbiana, Clark's Nutcracker

Pica hudsonia, Black-billed Magpie

Pica nuttalli, Yellow-billed Magpie

Corvus brachyrhynchos, American Crow

Corvus caurinus, Northwestern Crow

Corvus leucognaphalus, White-necked Crow

Corvus imparatus, Tamaulipas Crow

Corvus ossifragus, Fish Crow

Corvus hawaiiensis, Hawaiian Crow

Corvus cryptoleucus, Chihuahuan Raven

Corvus corax, Common Raven

Family ALAUDIDAE

Alauda arvensis, Sky Lark

Eremophila alpestris, Horned Lark

Family HIRUNDINIDAE

Subfamily Hirundininae

Progne subis, Purple Martin

Progne cryptoleuca, Cuban Martin

Progne dominicensis, Caribbean Martin

Progne chalybea, Gray-breasted Martin

Tachycineta bicolor, Tree Swallow

Tachycineta thalassina, Violet-green Swallow

Tachycineta cyaneoviridis, Bahama Swallow

Stelgidopteryx serripennis, Northern Rough-winged Swallow

Riparia riparia, Bank Swallow

Petrochelidon pyrrhonota, Cliff Swallow

Petrochelidon fulva, Cave Swallow

Hirundo rustica, Barn Swallow

Delichon urbica, Common House-Martin

Family PARIDAE

Poecile carolinensis, Carolina Chickadee

Poecile atricapilla, Black-capped Chickadee

Poecile gambeli, Mountain Chickadee

Poecile sclateri, Mexican Chickadee

Poecile rufescens, Chestnut-backed Chickadee

Poecile hudsonica, Boreal Chickadee

Poecile cincta, Gray-headed Chickadee

Baeolophus wollweberi, Bridled Titmouse

Baeolophus inornatus, Oak Titmouse

Baeolophus ridgwayi, Juniper Titmouse

Baeolophus bicolor, Tufted Titmouse

Family REMIZIDAE

Auriparus flaviceps, Verdin

Family AEGITHALIDAE

Psaltriparus minimus, Bushtit

Family SITTIDAE

Subfamily Sittinae

Sitta canadensis, Red-breasted Nuthatch

Sitta carolinensis, White-breasted Nuthatch

Sitta pygmaea, Pygmy Nuthatch

Sitta pusilla, Brown-headed Nuthatch

Family CERTHIIDAE

Subfamily Certhiinae

Certhia americana, Brown Creeper

Family TROGLODYTIDAE

Campylorhynchus brunneicapillus, Cactus Wren

Salpinctes obsoletus, Rock Wren

Catherpes mexicanus, Canyon Wren

Thryothorus ludovicianus, Carolina Wren

Thryothorus bewickii, Bewick's Wren

Troglodytes aedon, House Wren

Troglodytes troglodytes, Winter Wren

Cistothorus platensis, Sedge Wren

Cistothorus palustris, Marsh Wren

Family CINCLIDAE

Cinclus mexicanus, American Dipper

Family REGULIDAE

Regulus satrapa, Golden-crowned Kinglet

Regulus calendula, Ruby-crowned Kinglet

Family SYLVIIDAE

Subfamily Sylviinae

Locustella ochotensis, Middendorff's Grasshopper-Warbler

Acrocephalus familiaris, Millerbird

Phylloscopus borealis, Arctic Warbler

Phylloscopus trochilus, Willow Warbler

Subfamily Polioptilinae

Polioptila caerulea, Blue-gray Gnatcatcher

Polioptila californica, California Gnatcatcher

Polioptila melanura, Black-tailed Gnatcatcher

Polioptila nigriceps, Black-capped Gnatcatcher

Family MUSCICAPIDAE

Muscicapa narcissina, Narcissus Flycatcher

Muscicapa griseisticta, Gray-spotted Flycatcher

Family TURDIDAE

Luscinia calliope, Siberian Rubythroat

Luscinia svecica, Bluethroat

Monticola solitarius, Blue Rock Thrush

Oenanthe oenanthe, Northern Wheatear

Sialia sialis, Eastern Bluebird

Sialia mexicana, Western Bluebird

Sialia currucoides, Mountain Bluebird

Myadestes townsendi, Townsend's Solitaire

Myadestes myadestinus, Kamao

Myadestes lanaiensis, Olomao

Myadestes obscurus, Omao

Myadestes palmeri, Puaiohi

Catharus fuscescens, Veery

Catharus minimus, Gray-cheeked Thrush

Catharus bicknelli, Bicknell's Thrush

Catharus ustulatus, Swainson's Thrush

Catharus guttatus, Hermit Thrush

Hylocichla mustelina, Wood Thrush

Turdus obscurus, Eyebrowed Thrush

Turdus naumanni, Dusky Thrush

Turdus pilaris, Fieldfare

Turdus grayi, Clay-colored Robin

Turdus rufopalliatus, Rufous-backed Robin

Turdus migratorius, American Robin

Turdus plumbeus, Red-legged Thrush

Ixoreus naevius, Varied Thrush

Ridgwayia pinicola, Aztec Thrush

Family MIMIDAE

Dumetella carolinensis, Gray Catbird

Mimus polyglottos, Northern Mockingbird

Oreoscoptes montanus, Sage Thrasher

Toxostoma rufum, Brown Thrasher

Toxostoma longirostre, Long-billed Thrasher

Toxostoma bendirei, Bendire's Thrasher

Toxostoma curvirostre, Curve-billed Thrasher

Toxostoma redivivum, California Thrasher

Toxostoma crissale, Crissal Thrasher

Toxostoma lecontei, Le Conte's Thrasher

Margarops fuscatus, Pearly-eyed Thrasher

Family STURNIDAE

Sturnus philippensis, Chestnut-cheeked Starling

Sturnus cineraceus, White-cheeked Starling

Family PRUNELLIDAE

Prunella montanella, Siberian Accentor

Family MOTACILLIDAE

Motacilla flava, Yellow Wagtail

Motacilla cinerea, Gray Wagtail

Motacilla alba, White Wagtail

Motacilla lugens, Black-backed Wagtail

Anthus hodgsoni, Olive-backed Pipit

Anthus gustavi, Pechora Pipit

Anthus cervinus, Red-throated Pipit

Anthus rubescens, American Pipit

Anthus spragueii, Sprague's Pipit

Family BOMBYCILLIDAE

Bombycilla garrulus, Bohemian Waxwing

Bombycilla cedrorum, Cedar Waxwing

Family PTILOGONATIDAE

Phainopepla nitens, Phainopepla

Family PEUCEDRAMIDAE

Peucedramus taeniatus, Olive Warbler

Family PARULIDAE

Vermivora bachmanii, Bachman's Warbler

Vermivora pinus, Blue-winged Warbler

Vermivora chrysoptera, Golden-winged Warbler

Vermivora peregrina, Tennessee Warbler

Vermivora celata, Orange-crowned Warbler

Vermivora ruficapilla, Nashville Warbler

Vermivora virginiae, Virginia's Warbler

Vermivora crissalis, Colima Warbler

Vermivora luciae, Lucy's Warbler

Parula americana, Northern Parula

Parula pitiayumi, Tropical Parula

Dendroica petechia, Yellow Warbler

Dendroica pensylvanica, Chestnut-sided Warbler

Dendroica magnolia, Magnolia Warbler

Dendroica tigrina, Cape May Warbler

Dendroica caerulescens, Black-throated Blue Warbler

Dendroica coronata, Yellow-rumped Warbler

Dendroica nigrescens, Black-throated Gray Warbler

Dendroica chrysoparia, Golden-cheeked Warbler

Dendroica virens, Black-throated Green Warbler

Dendroica townsendi, Townsend's Warbler

Dendroica occidentalis, Hermit Warbler

Dendroica fusca, Blackburnian Warbler

Dendroica dominica, Yellow-throated Warbler

Dendroica graciae, Grace's Warbler

Dendroica adelaidae, Adelaide's Warbler

Dendroica pinus, Pine Warbler

Dendroica kirtlandii, Kirtland's Warbler

Dendroica discolor, Prairie Warbler

Dendroica palmarum, Palm Warbler

Dendroica castanea, Bay-breasted Warbler

Dendroica striata, Blackpoll Warbler

Dendroica cerulea, Cerulean Warbler

Dendroica angelae, Elfin-woods Warbler

Mniotilta varia, Black-and-white Warbler

Setophaga ruticilla, American Redstart

Protonotaria citrea, Prothonotary Warbler

Helmitheros vermivorus, Worm-eating Warbler

Limnothlypis swainsonii, Swainson's Warbler

Seiurus aurocapillus, Ovenbird

Seiurus noveboracensis, Northern Waterthrush

Seiurus motacilla, Louisiana Waterthrush

Oporornis formosus, Kentucky Warbler

Oporornis agilis, Connecticut Warbler

Oporornis philadelphia, Mourning Warbler

Oporornis tolmiei, MacGillivray's Warbler

Geothlypis trichas, Common Yellowthroat

Geothlypis poliocephala, Gray-crowned Yellowthroat

Wilsonia citrina, Hooded Warbler

Wilsonia pusilla, Wilson's Warbler

Wilsonia canadensis, Canada Warbler

Cardellina rubrifrons, Red-faced Warbler

Myioborus pictus, Painted Redstart

Myioborus miniatus, Slate-throated Redstart

Basileuterus culicivorus, Golden-crowned Warbler

Basileuterus rufifrons, Rufous-capped Warbler

Icteria virens, Yellow-breasted Chat

Family THRAUPIDAE

Neospingus speculiferus, Puerto Rican Tanager

Piranga flava, Hepatic Tanager

Piranga rubra, Summer Tanager

Piranga olivacea, Scarlet Tanager

Piranga ludoviciana, Western Tanager

Piranga bidentata, Flame-colored Tanager

Spindalis portoricensis, Puerto Rican Spindalis

Euphonia musica, Antillean Euphonia

Family EMBERIZIDAE

Sporophila torqueola, White-collared Seedeater

Tiaris olivacea, Yellow-faced Grassquit

Tiaris bicolor, Black-faced Grassquit

Loxigilla portoricensis, Puerto Rican Bullfinch

Arremonops rufivirgatus, Olive Sparrow

Pipilo chlorurus, Green-tailed Towhee

Pipilo maculatus, Spotted Towhee

Pipilo erythrophthalmus, Eastern Towhee

Pipilo fuscus, Canyon Towhee

Pipilo crissalis, California Towhee

Pipilo aberti, Abert's Towhee

Aimophila carpalis, Rufous-winged Sparrow

Aimophila cassinii, Cassin's Sparrow

Aimophila aestivalis, Bachman's Sparrow

Aimophila botterii, Botteri's Sparrow

Aimophila ruficeps, Rufous-crowned Sparrow

Aimophila quinquestriata, Five-striped Sparrow

Spizella arborea, American Tree Sparrow

Spizella passerina, Chipping Sparrow

Spizella pallida, Clay-colored Sparrow

Spizella breweri, Brewer's Sparrow

Spizella pusilla, Field Sparrow

Spizella wortheni, Worthen's Sparrow

Spizella atrogularis, Black-chinned Sparrow

Pooecetes gramineus, Vesper Sparrow

Chondestes grammacus, Lark Sparrow

Amphispiza bilineata, Black-throated Sparrow

Amphispiza belli, Sage Sparrow

Calamospiza melanocorys, Lark Bunting

Passerculus sandwichensis, Savannah Sparrow

Ammodramus savannarum, Grasshopper Sparrow

Ammodramus bairdii, Baird's Sparrow

Ammodramus henslowii, Henslow's Sparrow

Ammodramus leconteii, Le Conte's Sparrow

Ammodramus nelsoni, Nelson's Sharp-tailed Sparrow

Ammodramus caudacutus, Saltmarsh Sharp-tailed Sparrow

Ammodramus maritimus, Seaside Sparrow

Passerella iliaca, Fox Sparrow

Melospiza melodia, Song Sparrow

Melospiza lincolnii, Lincoln's Sparrow

Melospiza georgiana, Swamp Sparrow

Zonotrichia albicollis, White-throated Sparrow

Zonotrichia querula, Harris's Sparrow

Zonotrichia leucophrys, White-crowned Sparrow

Zonotrichia atricapilla, Golden-crowned Sparrow

Junco hyemalis, Dark-eyed Junco

Junco phaeonotus, Yellow-eyed Junco

Calcarius mccownii, McCown's Longspur

Calcarius lapponicus, Lapland Longspur

Calcarius pictus, Smith's Longspur

Calcarius ornatus, Chestnut-collared Longspur

Emberiza rustica, Rustic Bunting

Emberiza pallasi, Pallas's Bunting

Emberiza schoeniculus, Reed Bunting

Plectrophenax nivalis, Snow Bunting

Plectrophenax hyperboreus, McKay's Bunting

Family CARDINALIDAE

Rhodothraupis celaeno, Crimson-collared Grosbeak

Cardinalis cardinalis, Northern Cardinal

Cardinalis sinuatus, Pyrrhuloxia

Pheucticus chrysopeplus, Yellow Grosbeak

Pheucticus ludovicianus, Rose-breasted Grosbeak

Pheucticus malanocephalus, Black-headed Grosbeak

Guiraca caerulea, Blue Grosbeak

Passerina amoena, Lazuli Bunting

Passerina cyanea, Indigo Bunting

Passerina versicolor, Varied Bunting

Passerina ciris, Painted Bunting

Spiza americana, Dickcissel

Family ICTERIDAE

Dolichonyx oryzivorus, Bobolink

Agelaius phoeniceus, Red-winged Blackbird

Agelaius tricolor, Tricolored Blackbird

Agelaius humeralis, Tawny-shouldered Blackbird

Agelaius xanthomus, Yellow-shouldered Blackbird

Sturnella magna, Eastern Meadowlark

Sturnella neglecta, Western Meadowlark

Xanthocephalus xanthocephalus, Yellow-headed Blackbird

Euphagus carolinus, Rusty Blackbird

Euphagus cyanocephalus, Brewer's Blackbird

Quiscalus quiscula, Common Grackle

Quiscalus major, Boat-tailed Grackle

Quiscalus mexicanus, Great-tailed Grackle

Quiscalus niger, Greater Antillean Grackle

Molothrus bonariensis, Shiny Cowbird

Molothrus aeneus, Bronzed Cowbird

Molothrus ater, Brown-headed Cowbird

Icterus wagleri, Black-vented Oriole

Icterus dominicensis, Greater Antillean Oriole

Icterus spurius, Orchard Oriole

Icterus cucullatus, Hooded Oriole

Icterus pustulatus, Streak-backed Oriole

Icterus bullockii, Bullock's Oriole

Icterus gularis, Altamira Oriole

Icterus graduacauda, Audubon's Oriole

Icterus galbula, Baltimore Oriole

Icterus parisorum, Scott's Oriole

Family FRINGILLIDAE

Subfamily Fringillinae

Fringilla montifringilla, Brambling

SubFamily Carduelinae

Leucosticte tephrocotis, Gray-crowned Rosy-Finch

Leucosticte atrata, Black Rosy-Finch

Leucosticte australis, Brown-capped Rosy-Finch

Pinicola enucleator, Pine Grosbeak

Carpodacus erythrinus, Common Rosefinch

Carpodacus purpureus, Purple Finch

Carpodacus cassinii, Cassin's Finch

Carpodacus mexicanus, House Finch

Loxia curvirostra, Red Crossbill

Loxia leucoptera, White-winged Crossbill

Carduelis flammea, Common Redpoll

Carduelis hornemanni, Hoary Redpoll

Carduelis pinus, Pine Siskin

Carduelis psaltria, Lesser Goldfinch

Carduelis lawrencei, Lawrence's Goldfinch

Carduelis tristis, American Goldfinch

Carduelis sinica, Oriental Greenfinch

Pyrrhula pyrrhula, Eurasian Bullfinch

Coccothraustes vespertinus, Evening Grosbeak

Coccothraustes coccothraustes, Hawfinch

Dated: September 19, 2001.
Joseph E. Doddridge,
Assistant Secretary for Fish and Wildlife and Parks.

[FR Doc. 01-25525 Filed 10-11-01; 8:45 am]

BILLING CODE 4310-55-P